DEPARTMENT OF EDUCATION

Notice of Waivers Granted Under the Elementary and Secondary Education Act of 1965, as Amended

SUMMARY: In this notice, we announce the waivers that the U.S. Department of Education (Department) granted during calendar year 2010 under the waiver authority in section 9401 of the Elementary and Secondary Education Act of 1965, as amended (ESEA).

SUPPLEMENTARY INFORMATION:

In 2010, the Department granted a total of 238 waivers under the waiver authority in section 9401 of the ESEA. We granted:

(a) eleven waivers extending the period in which funds were available for obligation for the Reading First program, and seventy-two waivers extending the period in which Title I, Part A funds reserved under ESEA section 1003(a) (one waiver) or awarded under ESEA section 1003(g) (seventy-one waivers) were available for obligation for school improvement activities;

(b) thirty-one waivers of the regulatory definition of “persistently lowest-achieving schools” either allowing the State educational agency (SEA) to expand the pool of secondary schools from which it selects its persistently lowest-achieving schools or allowing it to apply a “minimum n” size below which the SEA would not identify a school as persistently lowest-achieving;

(c) two waivers allowing the SEA, with respect to a local educational agency (LEA) that receives School Improvement Grant (SIG) program funds for “Partnership Zone” schools, as defined by the State, to implement certain State regulatory provisions;

(d) nine waivers of the requirement that an SEA carry over 25 percent of SIG funds if not all of its Tier 1 schools are served with those funds;

(e) one waiver allowing high school students to take any one of a number of subject-specific mathematics assessments rather than the State's statewide mathematics assessment;

(f) twelve waivers allowing delayed release of assessment results or waiving the requirement to provide parents notice of public school choice options at least 14 days before the start of the school year (14-day notice);

(g) three waivers of certain requirements related to how adequate yearly progress (AYP) determinations are made;

(h) two Title I, Part A within-district allocation waivers;

(i) one waiver allowing an SEA to use Title I funds reserved for academic achievement rewards for eligible Title I schools to reward qualified Title I-eligible, but non-participating, schools;

(j) three waivers of various statutory and regulatory requirements due to the impact of the H1N1 flu virus;

(k) one waiver of the Title III requirement to make annual measurable achievement objective (AMAO) determinations;

(l) one waiver to allow the continued use of the “two percent transition flexibility” for calculating AYP for the students with disabilities subgroup;

(m) one waiver of the paraprofessional qualifications requirement in Title I schools;

(n) two waivers of the Consolidated Grant restrictions;

(o) twenty-nine waivers allowing SEAs or LEAs to approve schools or LEAs identified as in need of improvement as supplemental educational services (SES) providers;

(p) four new waivers and seventeen continuations of existing waivers allowing LEAs both to provide SES to eligible students attending schools in the first year of school improvement that receive funding under Title I, Part A of the ESEA (Title I schools) and to count the costs of doing so toward meeting the LEA's “20 percent obligation”; and

(q) thirty-six waivers allowing LEAs or schools to exclude their Title I, Part A allocation received under the American Recovery and Reinvestment Act of 2009 (ARRA) when calculating their 20 percent obligation for public school choice and SES, their professional development set-asides, and the per-pupil amount for SES, and to waive the carryover limitation more than once every three years.

Waiver Data

I. Extensions of the Obligation Period

A. Waivers for the Reading First Program

1. Waiver Applicant: Arizona Department of Education

• Provision waived: Tydings Amendment, section 421(b) of the General Education Provisions Act (GEPA).

• Date waiver granted: May 26, 2010.

• Description of waiver: Extended until September 30, 2011, the period of availability of fiscal year (FY) 2008 Reading First funds.

2. Waiver Applicant: California Department of Education

• Provision waived: Tydings Amendment, section 421(b) of GEPA.

• Date waiver granted: June 24, 2010.

• Description of waiver: Extended until March 31, 2010, the period of availability of FY 2007 Reading First funds.

3. Waiver Applicant: California Department of Education

• Provision waived: Tydings Amendment, section 421(b) of GEPA.

• Date waiver granted: October 27, 2010.

• Description of waiver: Extended until September 30, 2011, the period of availability of FY 2008 Reading First funds.

4. Waiver Applicant: Idaho Department of Education

• Provision waived: Tydings Amendment, section 421(b) of GEPA.

• Date waiver granted: June 14, 2010.

• Description of waiver: Extended until September 30, 2010, the period of availability of FY 2007 Reading First funds.

5. Waiver Applicant: Indiana Department of Education

• Provision waived: Tydings Amendment, section 421(b) of GEPA.

• Date waiver granted: September 20, 2010.

• Description of waiver: Extended until September 30, 2011, the period of availability of FY 2008 Reading First funds.

6. Waiver Applicant: Louisiana Department of Education

• Provision waived: Tydings Amendment, section 421(b) of GEPA.

• Date waiver granted: September 30, 2010.

• Description of waiver: Extended until September 30, 2011, the period of availability of FY 2007 Reading First funds.

7. Waiver Applicant: Louisiana Department of Education

• Provision waived: Tydings Amendment, section 421(b) of GEPA.

• Date waiver granted: September 16, 2010.

• Description of waiver: Extended until September 30, 2011, the period of availability of FY 2008 Reading First funds.

8. Waiver Applicant: Maine Department of Education

• Provision waived: Tydings Amendment, section 421(b) of GEPA.

• Date waiver granted: May 26, 2010.

• Description of waiver: Extended until September 30, 2011, the period of availability of FY 2008 Reading First funds.

9. Waiver Applicant: Maryland Department of Education

• Provision waived: Tydings Amendment, section 421(b) of GEPA.

• Date waiver granted: March 26, 2010.

• Description of waiver: Extended until September 30, 2010, the period of availability of FY 2007 Reading First funds.

10. Waiver Applicant: Ohio Department of Education

• Provision waived: Tydings Amendment, section 421(b) of GEPA.

• Date waiver granted: June 30, 2010.

• Description of waiver: Extended until September 30, 2011, the period of availability of FY 2008 Reading First funds.

11. Waiver Applicant: Texas Education Agency

• Provision waived: Tydings Amendment, section 421(b) of GEPA.

• Date waiver granted: September 16, 2010.

• Description of waiver: Extended until September 30, 2011, the period of availability of FY 2008 Reading First funds.

B. Waivers for School Improvement Requirements

1. Waiver Applicant: Alabama Department of Education

• Provision waived: Tydings Amendment, section 421(b) of GEPA.

• Date waiver granted: September 30, 2010.

• Description of waiver: Extended until September 30, 2011, the period of availability of fiscal year (FY) 2008 SIG funds awarded under section 1003(g) of the ESEA, with the condition that Alabama submit to the Department any comments it received regarding this waiver request within five days of the closing of the comment period.

Note: This condition was satisfied and officially removed on January 26, 2011.

2. Waiver Applicant: Alabama Department of Education

• Provision waived: Tydings Amendment, section 421(b) of GEPA.

• Date waiver granted: April 21, 2010.

• Description of waiver: Extended until September 30, 2013, the period of availability of FY 2009 SIG funds awarded under section 1003(g) of the ESEA.

3. Waiver Applicant: Alabama Department of Education

• Provision waived: Tydings Amendment, section 421(b) of GEPA.

• Date waiver granted: August 18, 2010.

• Description of waiver: Extended until September 30, 2013, the period of availability of FY 2009 Title I, Part A funds reserved for school improvement activities under section 1003(a) of the ESEA.

4. Waiver Applicant: Alaska Department of Education

• Provision waived: Tydings Amendment, section 421(b) of GEPA.

• Date waiver granted: October 27, 2010.

• Description of waiver: Extended until September 30, 2012, the period of availability of FY 2008 SIG funds awarded under section 1003(g) of the ESEA.

5. Waiver Applicant: Alaska Department of Education

• Provision waived: Tydings Amendment, section 421(b) of GEPA.

• Date waiver granted: April 15, 2010.

• Description of waiver: Extended until September 30, 2013, the period of availability of FY 2009 SIG funds awarded under section 1003(g) of the ESEA.

6. Waiver Applicant: Arizona Department of Education

• Provision waived: Tydings Amendment, section 421(b) of GEPA.

• Date waiver granted: April 9, 2010.

• Description of waiver: Extended until September 30, 2013, the period of availability of FY 2009 SIG funds awarded under section 1003(g) of the ESEA.

7. Waiver Applicant: Arkansas Department of Education

• Provision waived: Tydings Amendment, section 421(b) of GEPA.

• Date waiver granted: October 27, 2010.

• Description of waiver: Extended until September 30, 2011, the period of availability of FY 2008 SIG funds awarded under section 1003(g) of the ESEA.

8. Waiver Applicant: Arkansas Department of Education

• Provision waived: Tydings Amendment, section 421(b) of GEPA.

• Date waiver granted: September 13, 2010.

• Description of waiver: Extended until September 30, 2013, the period of availability of FY 2009 SIG funds awarded under section 1003(g) of the ESEA.

9. Waiver Applicant: Department of the Interior/Bureau of Indian Education (BIE)

• Provision waived: Tydings Amendment, section 421(b) of GEPA.

• Date waiver granted: August 3, 2010.

• Description of waiver: Extended until September 30, 2013, the period of availability of FY 2009 SIG funds awarded under section 1003(g) of the ESEA.

10. Waiver Applicant: California Department of Education

• Provision waived: Tydings Amendment, section 421(b) of GEPA.

• Date waiver granted: June 25, 2010.

• Description of waiver: Extended until September 30, 2013, the period of availability of FY 2009 SIG funds awarded under section 1003(g) of the ESEA.

11. Waiver Applicant: Colorado Department of Education

• Provision waived: Tydings Amendment, section 421(b) of GEPA.

• Date waiver granted: September 30, 2010.

• Description of waiver: Extended until September 30, 2011, the period of availability of FY 2008 SIG funds awarded under section 1003(g) of the ESEA, with the condition that Colorado submit to the Department any comments it received regarding this waiver request within five days of the closing of the comment period.

Note: This condition was satisfied and officially removed on January 19, 2011.

12. Waiver Applicant: Colorado Department of Education

• Provision waived: Tydings Amendment, section 421(b) of GEPA.

• Date waiver granted: April 15, 2010.

• Description of waiver: Extended until September 30, 2013, the period of availability of FY 2009 SIG funds awarded under section 1003(g) of the ESEA.

13. Waiver Applicant: Connecticut Department of Education

• Provision waived: Tydings Amendment, section 421(b) of GEPA.

• Date waiver granted: April 15, 2010.

• Description of waiver: Extended until September 30, 2013, the period of availability of FY 2009 SIG funds awarded under section 1003(g) of the ESEA.

14. Waiver Applicant: DC Office of the State Superintendent of Education

• Provision waived: Tydings Amendment, section 421(b) of GEPA.

• Date waiver granted: October 27, 2010.

• Description of waiver: Extended until September 30, 2012, the period of availability of FY 2008 SIG funds awarded under section 1003(g) of the ESEA.

15. Waiver applicant: DC Office of the State Superintendent of Education

• Provision waived: Tydings Amendment, section 421(b) of GEPA.

• Date waiver granted: April 2, 2010.

• Description of waiver: Extended until September 30, 2013, the period of availability of FY 2009 SIG funds awarded under section 1003(g) of the ESEA.

16. Waiver Applicant: Delaware Department of Education

• Provision waived: Tydings Amendment, section 421(b) of GEPA.

• Date waiver granted: June 25, 2010.

• Description of waiver: Extended until September 30, 2013, the period of availability of FY 2009 SIG funds awarded under section 1003(g) of the ESEA.

17. Waiver Applicant: Florida Department of Education

• Provision waived: Tydings Amendment, section 421(b) of GEPA.

• Date waiver granted: July 6, 2010.

• Description of waiver: Extended until September 30, 2013, the period of availability of FY 2009 SIG funds awarded under section 1003(g) of the ESEA.

18. Waiver Applicant: Georgia Department of Education

• Provision waived: Tydings Amendment, section 421(b) of GEPA.

• Date waiver granted: April 7, 2010.

• Description of waiver: Extended until September 30, 2013, the period of availability of FY 2009 SIG funds awarded under section 1003(g) of the ESEA.

19. Waiver Applicant: Hawaii Department of Education

• Provision waived: Tydings Amendment, section 421(b) of GEPA.

• Date waiver granted: September 25, 2010.

• Description of waiver: Extended until September 30, 2013, the period of availability of FY 2009 SIG funds awarded under section 1003(g) of the ESEA.

20. Waiver Applicant: Idaho Department of Education

• Provision waived: Tydings Amendment, section 421(b) of GEPA.

• Date waiver granted: August 18, 2010.

• Description of waiver: Extended until September 30, 2013, the period of availability of FY 2009 SIG funds awarded under section 1003(g) of the ESEA.

21. Waiver Applicant: Illinois Department of Education

• Provision waived: Tydings Amendment, section 421(b) of GEPA.

• Date waiver granted: September 30, 2010.

• Description of waiver: Extended until September 30, 2011, the period of availability of FY 2008 SIG funds awarded under section 1003(g) of the ESEA, with the condition that Illinois submit to the Department any comments it received regarding this waiver request within five days of the closing of the comment period.

Note: This condition was satisfied and officially removed on January 26, 2011.

22. Waiver Applicant: Illinois Department of Education

• Provision waived: Tydings Amendment, section 421(b) of GEPA.

• Date waiver granted: August 11, 2010.

• Description of waiver: Extended until September 30, 2013, the period of availability of FY 2009 SIG funds awarded under section 1003(g) of the ESEA.

23. Waiver Applicant: Indiana Department of Education

• Provision waived: Tydings Amendment, section 421(b) of GEPA.

• Date waiver granted: March 29, 2010.

• Description of waiver: Extended until September 30, 2013, the period of availability of FY 2009 SIG funds awarded under section 1003(g) of the ESEA.

24. Waiver Applicant: Iowa Department of Education

• Provision waived: Tydings Amendment, section 421(b) of GEPA.

• Date waiver granted: April 7, 2010.

• Description of waiver: Extended until September 30, 2013, the period of availability of FY 2009 SIG funds awarded under section 1003(g) of the ESEA.

25. Waiver Applicant: Kansas Department of Education

• Provision waived: Tydings Amendment, section 421(b) of GEPA.

• Date waiver granted: June 16, 2010.

• Description of waiver: Extended until September 30, 2013, the period of availability of FY 2009 SIG funds awarded under section 1003(g) of the ESEA.

26. Waiver Applicant: Kentucky Department of Education

• Provision waived: Tydings Amendment, section 421(b) of GEPA.

• Date waiver granted: April 21, 2010.

• Description of waiver: Extended until September 30, 2013, the period of availability of FY 2009 SIG funds awarded under section 1003(g) of the ESEA.

27. Waiver Applicant: Louisiana Department of Education

• Provision waived: Tydings Amendment, section 421(b) of GEPA.

• Date waiver granted: July 6, 2010.

• Description of waiver: Extended until September 30, 2013, the period of availability of FY 2009 SIG funds awarded under section 1003(g) of the ESEA.

28. Waiver Applicant: Maine Department of Education

• Provision waived: Tydings Amendment, section 421(b) of GEPA.

• Date waiver granted: July 16, 2010.

• Description of waiver: Extended until September 30, 2013, the period of availability of FY 2009 SIG funds awarded under section 1003(g) of the ESEA.

29. Waiver Applicant: Maryland Department of Education

• Provision waived: Tydings Amendment, section 421(b) of GEPA.

• Date waiver granted: September 30, 2010.

• Description of waiver: Extended until September 30, 2012, the period of availability of FY 2008 SIG funds awarded under section 1003(g) of the ESEA, with the condition that Maryland submit to the Department any comments it received regarding this waiver request within five days of the closing of the comment period.

Note: This condition was satisfied and officially removed on January 26, 2011.

30. Waiver Applicant: Maryland Department of Education

• Provision waived: Tydings Amendment, section 421(b) of GEPA.

• Date waiver granted: March 29, 2010.

• Description of waiver: Extended until September 30, 2013, the period of availability of FY 2009 SIG funds awarded under section 1003(g) of the ESEA.

31. Waiver Applicant: Massachusetts Department of Education

• Provision waived: Tydings Amendment, section 421(b) of GEPA.

• Date waiver granted: September 30, 2010.

• Description of waiver: Extended until December 31, 2010, the period of availability of FY 2008 SIG funds awarded under section 1003(g) of the ESEA, with the condition that Massachusetts submit to the Department any comments it received regarding this waiver request within five days of the closing of the comment period.

Note: This condition was satisfied and officially removed on January 18, 2011.

32. Waiver Applicant: Massachusetts Department of Education

• Provision waived: Tydings Amendment, section 421(b) of GEPA.

• Date waiver granted: July 16, 2010.

• Description of waiver: Extended until September 30, 2013, the period of availability of FY 2009 SIG funds awarded under section 1003(g) of the ESEA.

33. Waiver Applicant: Michigan Department of Education

• Provision waived: Tydings Amendment, section 421(b) of GEPA.

• Date waiver granted: October 27, 2010.

• Description of waiver: Extended until September 30, 2012, the period of availability of FY 2008 SIG funds awarded under section 1003(g) of the ESEA.

34. Waiver Applicant: Michigan Department of Education

• Provision waived: Tydings Amendment, section 421(b) of GEPA.

• Date waiver granted: July 8, 2010.

• Description of waiver: Extended until September 30, 2013, the period of availability of FY 2009 SIG funds awarded under section 1003(g) of the ESEA.

35. Waiver Applicant: Minnesota Department of Education

• Provision waived: Tydings Amendment, section 421(b) of GEPA.

• Date waiver granted: September 30, 2010.

• Description of waiver: Extended until September 30, 2011, the period of availability of FY 2008 SIG funds awarded for the SIG program under section 1003(g) of the ESEA, with the condition that Minnesota submit to the Department any comments it received regarding this waiver request within five days of the closing of the comment period.

Note: This condition was satisfied and officially removed on January 26, 2011.

36. Waiver Applicant: Minnesota Department of Education

• Provision waived: Tydings Amendment, section 421(b) of GEPA.

• Date waiver granted: March 10, 2010.

• Description of waiver: Extended until September 30, 2013, the period of availability of FY 2009 SIG funds awarded under section 1003(g) of the ESEA.

37. Waiver Applicant: Mississippi Department of Education

• Provision waived: Tydings Amendment, section 421(b) of GEPA.

• Date waiver granted: August 18, 2010.

• Description of waiver: Extended until September 30, 2013, the period of availability of FY 2009 SIG funds awarded under section 1003(g) of the ESEA.

38. Waiver Applicant: Missouri Department of Education

• Provision waived: Tydings Amendment, section 421(b) of GEPA.

• Date waiver granted: April 15, 2010.

• Description of waiver: Extended until September 30, 2013, the period of availability of FY 2009 SIG funds awarded under section 1003(g) of the ESEA.

39. Waiver Applicant: Montana Department of Education

• Provision waived: Tydings Amendment, section 421(b) of GEPA.

• Date waiver granted: July 22, 2010.

• Description of waiver: Extended until September 30, 2013, the period of availability of FY 2009 SIG funds awarded under section 1003(g) of the ESEA.

40. Waiver Applicant: Nebraska Department of Education

• Provision waived: Tydings Amendment, section 421(b) of GEPA.

• Date waiver granted: July 16, 2010.

• Description of waiver: Extended until September 30, 2013, the period of availability of FY 2009 SIG funds awarded under section 1003(g) of the ESEA.

41. Waiver Applicant: Nevada Department of Education

• Provision waived: Tydings Amendment, section 421(b) of GEPA.

• Date waiver granted: April 15, 2010.

• Description of waiver: Extended until September 30, 2013, the period of availability of FY 2009 SIG funds awarded under section 1003(g) of the ESEA.

42. Waiver Applicant: New Hampshire Department of Education

• Provision waived: Tydings Amendment, section 421(b) of GEPA.

• Date waiver granted: August 2, 2010.

• Description of waiver: Extended until September 30, 2013, the period of availability of FY 2009 SIG funds awarded under section 1003(g) of the ESEA.

43. Waiver Applicant: New Jersey Department of Education

• Provision waived: Tydings Amendment, section 421(b) of GEPA.

• Date waiver granted: September 30, 2010.

• Description of waiver: Extended until September 30, 2012, the period of availability of FY 2008 SIG funds awarded for the SIG program under section 1003(g) of the ESEA, with the condition that New Jersey submit to the Department any comments it received regarding this waiver request within five days of the closing of the comment period.

Note: This condition was satisfied and officially removed on January 26, 2011.

44. Waiver Applicant: New Jersey Department of Education

• Provision waived: Tydings Amendment, section 421(b) of GEPA.

• Date waiver granted: March 29, 2010.

• Description of waiver: Extended until September 30, 2013, the period of availability of FY 2009 SIG funds awarded under section 1003(g) of the ESEA.

45. Waiver Applicant: New Mexico Department of Education

• Provision waived: Tydings Amendment, section 421(b) of GEPA.

• Date waiver granted: April 9, 2010.

• Description of waiver: Extended until September 30, 2013, the period of availability of FY 2009 SIG funds awarded under section 1003(g) of the ESEA.

46. Waiver Applicant: New York State Department of Education

• Provision waived: Tydings Amendment, section 421(b) of GEPA.

• Date waiver granted: May 10, 2010.

• Description of waiver: Extended until March 31, 2011, the period of availability of FY 2008 SIG funds awarded under section 1003(g) of the ESEA.

47. Waiver Applicant: New York State Department of Education

• Provision waived: Tydings Amendment, section 421(b) of GEPA.

• Date waiver granted: May 3, 2010.

• Description of waiver: Extended until September 30, 2013, the period of availability of FY 2009 SIG funds awarded under section 1003(g) of the ESEA.

48. Waiver Applicant: North Carolina Department of Public Instruction

• Provision waived: Tydings Amendment, section 421(b) of GEPA.

• Date waiver granted: September 30, 2010.

• Description of waiver: Extended until September 30, 2012, the period of availability of FY 2008 SIG funds awarded for the SIG program under section 1003(g) of the ESEA, with the condition that North Carolina submit to the Department any comments it received regarding this waiver request within five days of the closing of the comment period.

Note: This condition was satisfied and officially removed on January 26, 2011.

49. Waiver Applicant: North Carolina Department of Public Instruction

• Provision waived: Tydings Amendment, section 421(b) of GEPA.

• Date waiver granted: April 9, 2010.

• Description of waiver: Extended until September 30, 2013, the period of availability of FY 2009 SIG funds awarded under section 1003(g) of the ESEA.

50. Waiver Applicant: North Dakota Department of Education

• Provision waived: Tydings Amendment, section 421(b) of GEPA.

• Date waiver granted: July 6, 2010.

• Description of waiver: Extended until September 30, 2013, the period of availability of FY 2009 SIG funds awarded under section 1003(g) of the ESEA.

51. Waiver Applicant: Ohio Department of Education

• Provision waived: Tydings Amendment, section 421(b) of GEPA.

• Date waiver granted: September 30, 2010.

• Description of waiver: Extended until September 30, 2012, the period of availability of FY 2008 SIG funds awarded for the SIG program under section 1003(g) of the ESEA, with the condition that Ohio submit to the Department any comments it received regarding this waiver request within five days of the closing of the comment period.

Note: This condition was satisfied and officially removed on January 26, 2011.

52. Waiver Applicant: Ohio Department of Education

• Provision waived: Tydings Amendment, section 421(b) of GEPA.

• Date waiver granted: March 29, 2010.

• Description of waiver: Extended until September 30, 2013, the period of availability of FY 2009 SIG funds awarded under section 1003(g) of the ESEA.

53. Waiver Applicant: Oklahoma Department of Education

• Provision waived: Tydings Amendment, section 421(b) of GEPA.

• Date waiver granted: November 4, 2010.

• Description of waiver: Extended until September 30, 2012, the period of availability of FY 2008 SIG funds awarded under section 1003(g) of the ESEA.

54. Waiver Applicant: Oklahoma Department of Education

• Provision waived: Tydings Amendment, section 421(b) of GEPA.

• Date waiver granted: April 21, 2010.

• Description of waiver: Extended until September 30, 2013, the period of availability of FY 2009 SIG funds awarded under section 1003(g) of the ESEA.

55. Waiver Applicant: Oregon Department of Education

• Provision waived: Tydings Amendment, section 421(b) of GEPA.

• Date waiver granted: November 4, 2010.

• Description of waiver: Extended until September 30, 2011, the period of availability of FY 2008 SIG funds awarded under section 1003(g) of the ESEA.

56. Waiver Applicant: Oregon Department of Education

• Provision waived: Tydings Amendment, section 421(b) of GEPA.

• Date waiver granted: July 8, 2010.

• Description of waiver: Extended until September 30, 2013, the period of availability of FY 2009 SIG funds awarded under section 1003(g) of the ESEA.

57. Waiver Applicant: Pennsylvania Department of Education

• Provision waived: Tydings Amendment, section 421(b) of GEPA.

• Date waiver granted: June 10, 2010.

• Description of waiver: Extended until September 30, 2013, the period of availability of FY 2009 SIG funds awarded under section 1003(g) of the ESEA.

58. Waiver Applicant: Puerto Rico Department of Education

• Provision waived: Tydings Amendment, section 421(b) of GEPA.

• Date waiver granted: September 30, 2010.

• Description of waiver: Extended until September 30, 2011, the period of availability of FY 2008 SIG funds awarded under section 1003(g) of the ESEA, with the condition that Puerto Rico submit to the Department any comments it received regarding this waiver request within five days of the closing of the comment period.

Note: This condition was satisfied and officially removed on January 26, 2011.

59. Waiver Applicant: Puerto Rico Department of Education

• Provision waived: Tydings Amendment, section 421(b) of GEPA.

• Date waiver granted: September 29, 2010.

• Description of waiver: Extended until September 30, 2013, the period of availability of FY 2009 SIG funds awarded under section 1003(g) of the ESEA.

60. Waiver Applicant: Rhode Island Department of Education

• Provision waived: Tydings Amendment, section 421(b) of GEPA.

• Date waiver granted: July 6, 2010.

• Description of waiver: Extended until September 30, 2013, the period of availability of FY 2009 SIG funds awarded under section 1003(g) of the ESEA.

61. Waiver Applicant: South Carolina Department of Education

• Provision waived: Tydings Amendment, section 421(b) of GEPA.

• Date waiver granted: April 15, 2010.

• Description of waiver: Extended until September 30, 2013, the period of availability of FY 2009 SIG funds awarded under section 1003(g) of the ESEA.

62. Waiver Applicant: South Dakota Department of Education

• Provision waived: Tydings Amendment, section 421(b) of GEPA.

• Date waiver granted: April 15, 2010.

• Description of waiver: Extended until September 30, 2013, the period of availability of FY 2009 SIG funds awarded under section 1003(g) of the ESEA.

63. Waiver Applicant: Tennessee Department of Education

• Provision waived: Tydings Amendment, section 421(b) of GEPA.

• Date waiver granted: September 22, 2010.

• Description of waiver: Extended until September 30, 2013, the period of availability of FY 2009 SIG funds awarded under section 1003(g) of the ESEA.

64. Waiver Applicant: Texas Education Agency

• Provision waived: Tydings Amendment, section 421(b) of GEPA.

• Date waiver granted: October 27, 2010.

• Description of waiver: Extended until September 30, 2012, the period of availability of FY 2008 SIG funds awarded under section 1003(g) of the ESEA.

65. Waiver Applicant: Texas Education Agency

• Provision waived: Tydings Amendment, section 421(b) of GEPA.

• Date waiver granted: April 2, 2010.

• Description of waiver: Extended until September 30, 2013, the period of availability of FY 2009 SIG funds awarded under section 1003(g) of the ESEA.

66. Waiver Applicant: Utah Department of Education

• Provision waived: Tydings Amendment, section 421(b) of GEPA.

• Date waiver granted: April 15, 2010.

• Description of waiver: Extended until September 30, 2013, the period of availability of FY 2009 SIG funds awarded under section 1003(g) of the ESEA.

67. Waiver Applicant: Vermont Department of Education

• Provision waived: Tydings Amendment, section 421(b) of GEPA.

• Date waiver granted: May 3, 2010.

• Description of waiver: Extended until September 30, 2013, the period of availability of FY 2009 SIG funds awarded under section 1003(g) of the ESEA.

68. Waiver Applicant: Virginia Department of Education

• Provision waived: Tydings Amendment, section 421(b) of GEPA.

• Date waiver granted: April 15, 2010.

• Description of waiver: Extended until September 30, 2013, the period of availability of FY 2009 SIG funds awarded under section 1003(g) of the ESEA.

69. Waiver Applicant: Washington Department of Education

• Provision waived: Tydings Amendment, section 421(b) of GEPA.

• Date waiver granted: March 29, 2010.

• Description of waiver: Extended until September 30, 2013, the period of availability of FY 2009 SIG funds awarded under section 1003(g) of the ESEA.

70. Waiver Applicant: Wisconsin Department of Education

• Provision waived: Tydings Amendment, section 421(b) of GEPA.

• Date waiver granted: June 17, 2010.

• Description of waiver: Extended until September 30, 2013, the period of availability of FY 2009 SIG funds awarded under section 1003(g) of the ESEA.

71. Waiver Applicant: West Virginia Department of Education

• Provision waived: Tydings Amendment, section 421(b) of GEPA.

• Date waiver granted: March 10, 2010.

• Description of waiver: Extended until September 30, 2013, the period of availability of FY 2009 SIG funds awarded under section 1003(g) of the ESEA.

72. Waiver Applicant: Wyoming Department of Education

• Provision waived: Tydings Amendment, section 421(b) of GEPA.

• Date waiver granted: August 11, 2010.

• Description of waiver: Extended until September 30, 2013, the period of availability of FY 2009 SIG funds awarded under section 1003(g) of the ESEA.

II. Definition of Persistently Lowest-Achieving Schools

1. Waiver Applicant: Alabama Department of Education

• Provision waived: The definition of “persistently lowest-achieving schools” in section I.A.3 of the SIG Final Requirements, 75 FR 66363 (Oct. 28, 2010), and the incorporation of that definition in section I.A.1(a) and (b) of those requirements.

• Date waiver granted: April 21, 2010.

• Description of waiver: Allowed Alabama to exclude certain schools from the pool of schools from which it identifies its persistently lowest-achieving schools. The exclusion covered any school in which the “all students” group in the grades assessed consisted of fewer than 40 students enrolled for a full academic year, as that term was defined in Alabama's Accountability Workbook.

2. Waiver Applicant: Alabama Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: April 21, 2010.

• Description of waiver: Allowed Alabama to include certain secondary schools in the pool from which it identifies its persistently lowest-achieving schools. The inclusion covered any Alabama secondary school that—

(A) Participated in Title I;

(B) Was not identified in Tier I; and

(C)(i) Had not made AYP for at least two consecutive years; or

(ii) Was in the lowest quintile of performance based on proficiency rates on Alabama's assessments in reading/language arts and mathematics combined.

3. Waiver Applicant: Alaska Department of Education

• Provision waived: The definition of “persistently lowest-achieving schools” in section I.A.3 of the SIG Final Requirements, 75 FR 66363 (Oct. 28, 2010), and the incorporation of that definition in section I.A.1(a) and (b) of those requirements.

• Date waiver granted: April 15, 2010.

• Description of waiver: Allowed Alaska to exclude certain schools from the pool of schools from which it identifies its persistently lowest-achieving schools. The exclusion covered any school in which the “all students” group in the grades assessed consisted of fewer than 25 students enrolled for a full academic year, as that term was defined in Alaska's Accountability Workbook.

4. Waiver Applicant: Alaska Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: April 14, 2010.

• Description of waiver: Allowed Alaska to include certain secondary schools in the pool from which it identifies its persistently lowest-achieving schools. The inclusion covered any Alaska secondary school that—

(A) Participated in Title I;

(B) Was not identified in Tier I; and

(C)(i) Had not made AYP for at least two consecutive years; or

(ii) Was in the lowest quintile of performance based on proficiency rates on Alaska's assessments in reading/language arts and mathematics combined.

5. Waiver Applicant: California Department of Education

• Provision waived: The definition of “persistently lowest-achieving schools” in section I.A.3 of the SIG Final Requirements, 75 FR 66363 (Oct. 28, 2010), and the incorporation of that definition in section I.A.1(a) and (b) of those requirements.

• Date waiver granted: May 24, 2010.

• Description of waiver: Allowed California to exclude certain schools from the pool of schools from which it identifies its persistently lowest-achieving schools. The exclusion covered any school in which the “all students” group in the grades assessed consisted of fewer than 100 students enrolled for a full academic year, as that term was defined in California's Accountability Workbook.

6. Waiver Applicant: California Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: May 24, 2010.

Description of waiver: Allowed California to include certain secondary schools in the pool from which it identifies its persistently lowest-achieving schools. The inclusion covered any California secondary school that—

(A) Participated in Title I;

(B) Was not identified in Tier I; and

(C)(i) Had not made AYP for at least two consecutive years; or

(ii) Was in the lowest quintile of performance based on proficiency rates on the California's assessments in reading/language arts and mathematics combined.

7. Waiver Applicant: Colorado Department of Education

• Provision waived: The definition of “persistently lowest-achieving schools” in section I.A.3 of the SIG Final Requirements, 75 FR 66363 (Oct. 28, 2010), and the incorporation of that definition in section I.A.1(a) and (b) of those requirements.

• Date waiver granted: May 10, 2010.

• Description of waiver: Allowed Colorado to exclude certain schools from the pool of schools from which it identifies its persistently lowest-achieving schools. The exclusion covered any school in which the “all students” group in the grades assessed consisted of fewer than 20 students enrolled for a full academic year, as that term was defined in Colorado's Accountability Workbook.

8. Waiver Applicant: Colorado Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: May 10, 2010.

• Description of waiver: Allowed Colorado to include certain secondary schools in the pool from which it identifies its persistently lowest-achieving schools. The inclusion covered any Colorado secondary school that—

(A) Participated in Title I;

(B) Was not identified in Tier I; and

(C)(i) Had not made AYP for at least two consecutive years; or

(ii) Was in the lowest quintile of performance based on proficiency rates on Colorado's assessments in reading/language arts and mathematics combined.

9. Waiver Applicant: Delaware Department of Education

• Provision waived: The definition of “persistently lowest-achieving schools” in section I.A.3 of the SIG Final Requirements, 75 FR 66363 (Oct. 28, 2010), and the incorporation of that definition in section I.A.1(a) and (b) of those requirements.

• Date waiver granted: June 24, 2010.

• Description of waiver: Allowed Delaware to exclude certain schools from the pool from which it identifies its persistently lowest-achieving schools. This exclusion covered any school in which the “all students” group in the grades assessed consisted of fewer than 30 students enrolled for a full academic year, as that term was defined in Delaware's Accountability Workbook.

10. Waiver Applicant: Illinois Department of Education

• Provision waived: Paragraph (a)(2) of the definition of “persistently lowest-achieving schools” in section I.A.3 of the SIG Final Requirements, 75 FR. 66363 (Oct. 28, 2010), and the incorporation of that definition in section I.A.1(b) of those requirements.

• Date waiver granted: August 13, 2010.

• Description of waiver: Allowed Illinois to include certain secondary schools in the pool from which it identifies its persistently lowest-achieving schools. The inclusion covered any Illinois secondary school that—

(A) Participated in Title I;

(B) Was not identified in Tier I; and

(C)(i) Had not made AYP for at least two consecutive years; or

(ii) Was in the lowest quintile of performance based on proficiency rates on Illinois' assessments in reading/language arts and mathematics combined.

11. Waiver Applicant: Kansas Department of Education

• Provision waived: The definition of “persistently lowest-achieving schools” in section I.A.3 of the SIG Final Requirements, 75 FR 66363 (Oct. 28, 2010), and the incorporation of that definition in section I.A.1(a) and (b) of those requirements.

• Date waiver granted: March 31, 2010.

• Description of waiver: Allowed Kansas to exclude certain schools from the pool from which it identifies its persistently lowest-achieving schools. This exclusion covered any school in which the “all students” group in the grades assessed consisted of fewer than 30 students enrolled for a full academic year, as that term was defined in Kansas' Accountability Workbook.

12. Waiver Applicant: Kansas Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: March 31, 2010.

• Description of waiver: Allows Kansas to include certain secondary schools in the pool of secondary schools from which it identifies its persistently lowest-achieving schools. This inclusion covered any Kansas secondary school that—

(A) Participated in Title I;

(B) Was not identified in Tier I; and

(C)(i) Had not made AYP for at least two consecutive years; or

(ii) Was in the lowest quintile of performance based on proficiency rates on Kansas' assessments in reading/language arts and mathematics combined.

13. Waiver Applicant: Massachusetts Department of Education

• Provision waived: The definition of “persistently lowest-achieving schools” in section I.A.3 of the SIG Final Requirements, 75 FR 66363 (Oct. 28, 2010), and the incorporation of that definition in section I.A.1(a) and (b) of those requirements.

• Date waiver granted: April 27, 2010.

• Description of waiver: Allowed Massachusetts to exclude certain schools from the pool of schools from which it identifies its persistently lowest-achieving schools. The exclusion covered any school in which the “all students” group in the grades assessed consisted of fewer than 20 students enrolled for a full academic year, as that term was defined in Massachusetts' Accountability Workbook.

14. Waiver Applicant: Massachusetts Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: April 27, 2010.

• Description of waiver: Allowed Massachusetts to include certain secondary schools in the pool from which it identifies its persistently lowest-achieving schools. The inclusion covered any Massachusetts secondary school that—

(A) Participated in Title I;

(B) Was not identified in Tier I; and

(C)(i) Had not made AYP for at least two consecutive years; or

(ii) Was in the lowest quintile of performance based on proficiency rates on Massachusetts' assessments in reading/language arts and mathematics combined.

15. Waiver Applicant: Maryland Department of Education

• Provision waived: The definition of “persistently lowest-achieving schools” in section I.A.3 of the SIG Final Requirements, 75 FR 66363 (Oct. 28, 2010), and the incorporation of that definition in section I.A.1(a) and (b) of those requirements.

• Date waiver granted: April 9, 2010.

• Description of waiver: Allowed Maryland to exclude certain schools from the pool of schools from which it identifies its persistently lowest-achieving schools. The exclusion covered any school in which the “all students” group in the grades assessed consisted of fewer than 30 for schools with one grade assessed and fewer than 60 for schools with at least two grades assessed enrolled for a full academic year as that term was defined in Maryland's Accountability Workbook.

16. Waiver Applicant: Maryland Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: April 9, 2010.

• Description of waiver: Allowed Maryland to include certain secondary schools in the pool from which it identifies its persistently lowest-achieving schools. The inclusion covered any Maryland secondary school that—

(A) Participated in Title I;

(B) Was not identified in Tier I; and

(C)(i) Had not made AYP for at least two consecutive years; or

(ii) Was in the lowest quintile of performance based on proficiency rates on Maryland's assessments in reading/language arts and mathematics combined.

17. Waiver Applicant: Michigan Department of Education

• Provision waived: The definition of “persistently lowest-achieving schools” in section I.A.3 of the SIG Final Requirements, 75 FR 66363 (Oct. 28, 2010), and the incorporation of that definition in section I.A.1(a) and (b) of those requirements.

• Date waiver granted: July 2, 2010.

• Description of waiver: Allowed Michigan to exclude certain schools from the pool of schools from which it identifies its persistently lowest-achieving schools. The exclusion covered any school in which the “all students” group in the grades assessed consisted of fewer than 30 students enrolled for a full academic year, as that term was defined in Michigan's Accountability Workbook.

18. Waiver Applicant: Michigan Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: July 2, 2010.

• Description of waiver: Allowed Michigan to include certain secondary schools in the pool from which it identifies its persistently lowest-achieving schools. The inclusion covered any Michigan secondary school that—

(A) Participated in Title I;

(B) Was not identified in Tier I; and

(C)(i) Had not made AYP for at least two consecutive years; or

(ii) Was in the lowest quintile of performance based on proficiency rates on Michigan's assessments in reading/language arts and mathematics combined.

19. Waiver Applicant: Missouri Department of Education

• Provision waived: The definition of “persistently lowest-achieving schools” in section I.A.3 of the SIG Final Requirements, 75 FR 66363 (Oct. 28, 2010), and the incorporation of that definition in section I.A.1(a) and (b) of those requirements.

• Date waiver granted: March 31, 2010.

• Description of waiver: Allowed Missouri to exclude certain schools from the pool of schools from which it identifies its persistently lowest-achieving schools. The exclusion covered any school in which the “all students” group in the grades assessed consisted of fewer than 30 students enrolled for a full academic year, as that term was defined in Missouri's Accountability Workbook.

20. Waiver Applicant: Missouri Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: March 31, 2010.

• Description of waiver: Allowed Missouri to include certain secondary schools in the pool from which it identifies its persistently lowest-achieving schools. The inclusion covered any Missouri secondary school that—

(A) Participated in Title I;

(B) Was not identified in Tier I; and

(C)(i) Had not made AYP for at least two consecutive years; or

(ii) Was in the lowest quintile of performance based on proficiency rates on Missouri's assessments in reading/language arts and mathematics combined.

21. Waiver Applicant: Nebraska Department of Education

• Provision waived: The definition of “persistently lowest-achieving schools” in section I.A.3 of the SIG Final Requirements, 75 FR 66363 (Oct. 28, 2010), and the incorporation of that definition in section I.A.1(a) and (b) of those requirements.

• Date waiver granted: March 31, 2010.

• Description of waiver: Allowed Nebraska to exclude certain schools from the pool of schools from which it identifies its persistently lowest-achieving schools. The exclusion covered any school in which the “all students” group in the grades assessed consisted of fewer than 30 students enrolled for a full academic year, as that term was defined in Nebraska's Accountability Workbook.

22. Waiver Applicant: Nebraska Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: March 31, 2010.

• Description of waiver: Allowed Nebraska to include certain secondary schools in the pool from which it identifies its persistently lowest-achieving schools. The inclusion covered any Nebraska high school with a graduation rate lower than 75 percent.

23. Waiver Applicant: New Mexico Department of Education

• Provision waived: The definition of “persistently lowest-achieving schools” in section I.A.3 of the SIG Final Requirements, 75 FR 66363 (Oct. 28, 2010), and the incorporation of that definition in section I.A.1(a) and (b) of those requirements.

• Date waiver granted: April 9, 2010.

• Description of waiver: Allowed New Mexico to exclude certain schools from the pool of schools from which it identifies its persistently lowest-achieving schools. The exclusion covered any school in which the “all students” group in the grades assessed consisted of fewer than 25 students enrolled for a full academic year, as that term was defined in New Mexico's Accountability Workbook.

24. Waiver Applicant: Oklahoma Department of Education

• Provision waived: The definition of “persistently lowest-achieving schools” in section I.A.3 of the SIG Final Requirements, 75 FR 66363 (Oct. 28, 2010), and the incorporation of that definition in section I.A.1(a) and (b) of those requirements.

• Date waiver granted: April 21, 2010.

• Description of waiver: Allowed Oklahoma to exclude certain schools from the pool of schools from which it identifies its persistently lowest-achieving schools. The exclusion covered any school in which the “all students” group in the grades assessed consisted of fewer than 30 students enrolled for a full academic year, as that term was defined in Oklahoma's Accountability Workbook.

25. Waiver Applicant: Rhode Island Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: April 15, 2010.

• Description of waiver: Allowed Rhode Island to include certain secondary schools in the pool from which it identifies its persistently lowest-achieving schools. The inclusion covered any Rhode Island secondary school that—

(A) Participated in Title I;

(B) Was not identified in Tier I; and

(C)(i) Had not made AYP for at least two consecutive years; or

(ii) Was in the lowest quintile of performance based on proficiency rates on Rhode Island's assessments in reading/language arts and mathematics combined.

26. Waiver Applicant: South Carolina Department of Education

• Provision waived: The definition of “persistently lowest-achieving schools” in section I.A.3 of the SIG Final Requirements, 75 FR 66363 (Oct. 28, 2010), and the incorporation of that definition in section I.A.1(a) and (b) of those requirements.

• Date waiver granted: April 1, 2010.

• Description of waiver: Allowed South Carolina to exclude certain schools from the pool of schools from which it identifies its persistently lowest-achieving schools. The exclusion covered any school in which the “all students” group in the grades assessed consisted of fewer than 30 students enrolled for a full academic year, as that term was defined in South Carolina's Accountability Workbook.

27. Waiver Applicant: South Carolina Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: April 1, 2010.

• Description of waiver: Allowed South Carolina to include certain secondary schools in the pool from which it identifies its persistently lowest-achieving schools. The inclusion covered any South Carolina secondary school that—

(A) Participated in Title I;

(B) Was not identified in Tier I; and

(C)(i) Had not made AYP for at least two consecutive years; or

(ii) Was in the lowest quintile of performance based on proficiency rates on South Carolina's assessments in reading/language arts and mathematics combined.

28. Waiver Applicant: South Dakota Department of Education

• Provision waived: The definition of “persistently lowest-achieving schools” in section I.A.3 of the SIG Final Requirements, 75 FR 66363 (Oct. 28, 2010), and the incorporation of that definition in section I.A.1(a) and (b) of those requirements.

• Date waiver granted: April 13, 2010.

• Description of waiver: Allowed South Dakota to exclude certain schools from the pool of schools from which it identifies its persistently lowest-achieving schools. The exclusion covered any school in which the “all students” group in the grades assessed consisted of fewer than 10 students enrolled for a full academic year, as that term was defined in South Dakota's Accountability Workbook.

29. Waiver Applicant: Washington Department of Education

• Provision waived: The definition of “persistently lowest-achieving schools” in section I.A.3 of the SIG Final Requirements, 75 FR 66363 (Oct. 28, 2010), and the incorporation of that definition in section I.A.1(a) and (b) of those requirements.

• Date waiver granted: April 1, 2010.

• Description of waiver: Allowed Washington to exclude certain schools from the pool of schools from which it identifies its persistently lowest-achieving schools. The exclusion covered any school in which the “all students” group in the grades assessed consisted of fewer than 30 students enrolled for a full academic year, as that term was defined in Washington's Accountability Workbook.

30. Waiver Applicant: Wisconsin Department of Education

• Provision waived: The definition of “persistently lowest-achieving schools” in section I.A.3 of the SIG Final Requirements, 75 FR 66363 (Oct. 28, 2010), and the incorporation of that definition in section I.A.1(a) and (b) of those requirements.

• Date waiver granted: April 13, 2010.

• Description of waiver: Allowed Wisconsin to exclude certain schools from the pool of schools from which it identifies its persistently lowest-achieving schools. The exclusion covered any school in which the “all students” group in the grades assessed consisted of fewer than 40 students enrolled for a full academic year, as that term was defined in Wisconsin's Accountability Workbook.

31. Waiver Applicant: Wisconsin Department of Education

• Provision waived: Paragraph (a)(2) of the definition of “persistently lowest-achieving schools” in section I.A.3 of the SIG Final Requirements, 75 FR 66363 (Oct. 28, 2010), and the incorporation of that definition in section I.A.1(b) of those requirements.

• Date waiver granted: April 13, 2010.

• Description of waiver: Allowed Wisconsin to include certain secondary schools in the pool from which it identifies its persistently lowest-achieving schools. The inclusion covered any Wisconsin secondary school that—

(A) Participated in Title I;

(B) Was not identified in Tier I; and

(C)(i) Had not made AYP for at least two consecutive years; or

(ii) Was in the lowest quintile of performance based on proficiency rates on Wisconsin's assessments in reading/language arts and mathematics combined.

III. Waivers Allowing an SEA, With Respect to an LEA That Receives SIG Program Funds for “Partnership Zone” Schools as Defined By the State, To Implement Certain State Regulatory Provisions

1. Waiver Applicant: Delaware Department of Education

• Provision waived: Section II.B.2(d) of the SIG Final Requirements, 75 FR 66363 (Oct. 28, 2010).

• Date waiver granted: June 15, 2010.

• Description of waiver: Allowed Delaware, with respect to an LEA that receives FY 2009 or FY 2010 SIG funds for “Partnership Zone” schools, designated as such by the Delaware Secretary of Education, to, under certain circumstances, implement the State regulatory provision that requires such an LEA to use either the restart model or the school closure model in its Partnership Zone schools. If not waived, the SEA could not require an LEA to implement a particular model in one or more schools unless the SEA took over the LEA or school.

2. Waiver Applicant: Delaware Department of Education

• Provision waived: Section II.A.8(a)(i) of the SIG Final Requirements, 75 FR (Oct. 28, 2010).

• Date waiver granted: June 15, 2010.

• Description of waiver: Allowed Delaware, with respect to an LEA that receives FY 2009 or 2010 SIG funds for “Partnership Zone” schools, designated as such by the Delaware Secretary of Education, to implement the State regulatory provision that requires such an LEA to renegotiate its Memorandum of Understanding (MOU) with the Delaware Department of Education related to the Partnership Zone schools or, if a particular Partnership Zone school does not make AYP by the end of the second year following implementation of the MOU, select another school intervention model. If not waived, the LEA would be required to monitor each Tier I and Tier II school that received SIG funds and, as part of its monitoring, establish annual goals for student achievement based on Delaware's assessments in both reading/language arts and mathematics.

IV. Waiving the Requirement To Carry Over 25 Percent of FY 2009 SIG Funds If Not All of Tier I Schools Are Served With Those Funds

1. Waiver Applicant: Alaska Department of Education

• Provision waived: Section II.B.9(a) of the SIG Final Requirements, 75 FR 66363 (Oct. 28, 2010).

• Date waiver granted: September 30, 2010.

• Description of waiver: Waived the requirement that an SEA carry over 25 percent of its FY 2009 SIG funds if not all of its Tier I schools are served with those funds and allowed the SEA to allocate more than 75 percent of its FY 2009 SIG funds to LEAs for Tier I and Tier II schools that its LEAs committed to serve beginning in the 2010-11 school year.

2. Waiver Applicant: California Department of Education

• Provision waived: Section II.B.9(a) of the SIG Final Requirements, 75 FR 66363 (Oct. 28, 2010).

• Date waiver granted: October 13, 2010.

• Description of waiver: Waived the requirement that an SEA carry over 25 percent of its FY 2009 SIG funds if not all of its Tier I schools were served with those funds, and allowed the SEA to allocate more than 75 percent of its FY 2009 SIG funds to LEAs for Tier I and Tier II schools that its LEA committed to serve beginning in the 2010-11 school year. The funds made available for the FY 2009 competition through the waiver allowed California to make awards to additional LEAs that had demonstrated the commitment and capacity to implement one of the four rigorous school intervention models in their Tier I and Tier II schools beginning in fall 2010.

3. Waiver Applicant: Colorado Department of Education

• Provision waived: Section II.B.9(a) of the SIG Final Requirements, 75 FR 66363 (Oct. 28, 2010).

• Date waiver granted: August 18, 2010.

• Description of waiver: Waived the requirement that an SEA carry over 25 percent of its FY 2009 SIG funds if not all of its Tier I schools were served with those funds, and allowed the SEA to allocate more than 75 percent of its FY 2009 SIG funds to LEAs for Tier I and Tier II schools that its LEA committed to serve beginning in the 2010-11 school year. The funds made available for the FY 2009 competition through the waiver allowed Colorado to make awards to additional LEAs that had demonstrated the commitment and capacity to implement one of the four rigorous school intervention models in their Tier I and Tier II schools beginning in fall 2010.

4. Waiver Applicant: Connecticut Department of Education

• Provision waived: Section II.B.9(a) of the SIG Final Requirements, 75 FR 66363 (Oct. 28, 2010).

• Date waiver granted: July 26, 2010.

• Description of waiver: Waived the requirement that an SEA carry over 25 percent of its FY 2009 SIG funds if not all of its Tier I schools were served with those funds, and allowed the SEA to allocate more than 75 percent of its FY 2009 SIG funds to LEAs for Tier I and Tier II schools that its LEA committed to serve beginning in the 2010-11 school year. The funds made available for the FY 2009 competition through the waiver allowed Connecticut to make awards to additional LEAs that had demonstrated the commitment and capacity to implement one of the four rigorous school intervention models in their Tier I and Tier II schools beginning in fall 2010.

5. Waiver Applicant: Maine Department of Education

• Provision waived: Section II.B.9(a) of the SIG Final Requirements, 75 FR 66363 (Oct. 28, 2010).

• Date waiver granted: September 16, 2010.

• Description of waiver: Waived the requirement that an SEA carry over 25 percent of its FY 2009 SIG funds if not all of its Tier I schools were served with those funds, and allowed the SEA to allocate more than 75 percent of its FY 2009 SIG funds to LEAs for Tier I and Tier II schools that its LEA committed to serve beginning in the 2010-11 school year. The funds made available for the FY 2009 competition through the waiver allowed Maine to make awards to additional LEAs that had demonstrated the commitment and capacity to implement one of the four rigorous school intervention models in their Tier I and Tier II schools beginning in fall 2010.

6. Waiver Applicant: Missouri Department of Education

• Provision waived: Section II.B.9(a) of the SIG Final Requirements, 75 FR 66363 (Oct. 28, 2010).

• Date waiver granted: September 14, 2010.

• Description of waiver: Waived the requirement that an SEA carry over 25 percent of its FY 2009 SIG funds if not all of its Tier I schools were served with those funds, and allowed the SEA to allocate more than 75 percent of its FY 2009 SIG funds to LEAs for Tier I and Tier II schools that its LEA committed to serve beginning in the 2010-11 school year. The funds made available for the FY 2009 competition through the waiver allowed Missouri to make awards to additional LEAs that had demonstrated the commitment and capacity to implement one of the four rigorous school intervention models in their Tier I and Tier II schools beginning in fall 2010.

7. Waiver Applicant: Oregon Department of Education

• Provision waived: Section II.B.9(a) of the SIG Final Requirements, 75 FR 66363 (Oct. 28, 2010).

• Date waiver granted: September 22, 2010.

• Description of waiver: Waived the requirement that an SEA carry over 25 percent of its FY 2009 SIG funds if not all of its Tier I schools were served with those funds, and allowed the SEA to allocate more than 75 percent of its FY 2009 SIG funds to LEAs for Tier I and Tier II schools that its LEA committed to serve beginning in the 2010-11 school year. The funds made available for the FY 2009 competition through the waiver allowed Oregon to make awards to additional LEAs that had demonstrated the commitment and capacity to implement one of the four rigorous school intervention models in their Tier I and Tier II schools beginning in fall 2010.

8. Waiver Applicant: Pennsylvania Department of Education

• Provision waived: Section II.B.9(a) of the SIG Final Requirements, 75 FR 66363 (Oct. 28, 2010).

• Date waiver granted: October 22, 2010.

• Description of waiver: Waived the requirement that an SEA carry over 25 percent of its FY 2009 SIG funds if not all of its Tier I schools were served with those funds, and allowed the SEA to allocate more than 75 percent of its FY 2009 SIG funds to LEAs for Tier I and Tier II schools that its LEA committed to serve beginning in the 2010-11 school year. The funds made available for the FY 2009 competition through the waiver allowed Pennsylvania to make awards to additional LEAs that had demonstrated the commitment and capacity to implement one of the four rigorous school intervention models in their Tier I and Tier II schools beginning in fall 2010.

9. Waiver Applicant: Washington Department of Education

• Provision waived: Section II.B.9(a) of the SIG Final Requirements, 75 FR 66363 (Oct. 28, 2010).

• Date waiver granted: June 23, 2010.

• Description of waiver: Waived the requirement that an SEA carry over 25 percent of its FY 2009 SIG funds if not all of its Tier I schools are served with those funds, and allowed the SEA to allocate more than 75 percent of its FY 2009 SIG funds to LEAs for Tier I and Tier II schools that its LEA committed to serve beginning in the 2010-11 school year. The funds made available for the FY 2009 competition through the waiver allowed Washington to make awards to additional LEAs that had demonstrated the commitment and capacity to implement one of the four rigorous school intervention models in their Tier I and Tier II schools beginning in fall 2010.

V. Substitute Assessments

1. Waiver Applicant: New York State Department of Education

• Provisions waived: Section 1111(b)(3)(C)(i) of the ESEA and 34 CFR 200.3(a)(1)(i).

• Date waiver granted: July 2, 2010.

• Description of waiver: Permitted New York to use the Advanced International Certificate of Education Mathematics Examination, the Advanced Placement Calculus AB or BC Examinations, the International Baccalaureate Mathematical Studies or Mathematics Methods Standard-Level Examinations, the International Baccalaureate Mathematics Higher-Level Examination, the International General Certificate of Secondary Education, or the SAT II Mathematics Level 1 or 2 Examinations, from the 2009-10 school year through the 2012-13 school year, in place of the high school New York Regents Examination in Integrated Algebra. This was permitted, even though the same assessment would not be used by all students, and some students might have taken an assessment that did not cover the full breadth and depth of the State's academic content standards.

VI. Delayed Release of Assessment Results and/or Public School Choice Notice

1. Waiver Applicant: Arizona Department of Education

• Provisions waived: Section 1116(b)(1)(E)(i) of the ESEA and 34 CFR 200.37(b)(4)(iv).

• Date waiver granted: June 14, 2010.

• Description of waiver: Allowed Arizona to postpone—

(A) Notice of public school choice for the start of the 2010-11 school year until assessment results were available; and

(B) Notice of public school choice options beyond 14 days before the start of the school year to parents of eligible children attending schools that—

(i) Were newly identified for improvement for the 2010-11 school year; or

(ii) Made AYP in the previous year but did not exit from improvement status.

2. Waiver Applicant: California Department of Education

• Provisions waived: Section 1116(b)(1)(E)(i) of the ESEA and 34 CFR 200.37(b)(4)(iv).

• Date waiver granted: December 7, 2010.

• Description of waiver: Allowed California to postpone—

(A) Notice of public school choice for the start of the 2010-11 school year until assessment results were available; and

(B) Notice of public school choice options beyond 14 days before the start of the school year to parents of eligible children attending schools that—

(i) Were newly identified for improvement for the 2010-11 school year; or

(ii) Made AYP in the previous year but did not exit improvement status.

3. Waiver Applicant: Colorado Department of Education

• Provision waived: 34 CFR 200.37(b)(4)(iv).

• Date waiver granted: September 13, 2010.

• Description of waiver: Allowed Colorado to postpone—

(A) Notice of public school choice options beyond 14 days before the start of the school year to parents of eligible children attending schools that—

(i) Were newly identified for improvement for the 2010-11 school year; or

(ii) Made AYP in the previous year but did not exit improvement status.

4. Waiver Applicant: Florida Department of Education

• Provision waived: 34 CFR 200.37(b)(4)(iv).

• Date waiver granted: August 3, 2010.

• Description of waiver: Allowed Florida to postpone—

(A) Notice of public school choice options beyond 14 days before the start of the school year to parents of eligible children attending schools that—

(i) Were newly identified for improvement for the 2010-11 school year; or

(ii) Made AYP in the previous year but did not exit improvement status.

5. Waiver Applicant: Idaho Department of Education

• Provisions waived: Sections 1116(a)(2) and 1116(b)(l)(E)(i) of the ESEA, and 34 CFR 200.37(b)(4)(iv).

• Date waiver granted: June 30, 2010.

• Description of waiver: Allowed Idaho to postpone—

(A) Release of results from the State academic assessment administered in the 2009-10 school year;

(B) Notice of public school choice for the start of the 2010-11 school year until assessment results were available; and

(C) Notice of public school choice options beyond 14 days before the start of the school year to parents of eligible children attending schools that—

(i) Were newly identified for improvement for the 2010-11 school year; or

(ii) Made AYP in the previous year but did not exit improvement status.

6. Waiver Applicant: Indiana Department of Education

• Provisions waived: Sections 1116(a)(2) and 1116(b)(l)(E)(i) of the ESEA, and 34 CFR 200.37(b)(4)(iv).

• Date waiver granted: October 29, 2010.

• Description of waiver: Allowed Indiana to postpone—

(A) Release of results from the State academic assessment administered in the 2009-10 school year;

(B) Notice of public school choice for the start of the 2010-11 school year until assessment results were available; and

(C) Notice of public school choice options beyond 14 days before the start of the school year to parents of eligible children attending schools that—

(i) Were newly identified for improvement for the 2010-11 school year; or

(ii) Made AYP in the previous year but did not exit improvement status.

7. Waiver Applicant: Kentucky Department of Education

• Provision waived: Sections 1116(a)(2) and 1116(b)(l)(E)(i) of the ESEA, and 34 CFR 200.37(b)(4)(iv).

• Date waiver granted: April 15, 2010.

• Description of waiver: Allowed Kentucky to postpone—

(A) The release of results from the State academic assessment administered in the 2009-10 school year;

(B) Notice of public school choice for the start of the 2010-11 school year until assessment results were available; and

(C) Notice of public school choice options beyond 14 days before the start of the school year to parents of eligible children attending schools that—

(i) Were newly identified for improvement for the 2010-11 school year or

(ii) Made AYP in the previous year but did not exit improvement status.

8. Waiver Applicant: Nebraska Department of Education

• Provision waived: 34 CFR 200.37(b)(4)(iv).

• Date waiver granted: July 12, 2010.

• Description of waiver: Allowed Nebraska to postpone—

(A) Notice of public school choice options beyond 14 days before the start of the school year to parents of eligible children attending schools that—

(i) Were newly identified for improvement for the 2010-11 school year; or

(ii) Made AYP in the previous year but did not exit improvement status.

9. Waiver Applicant: New York State Department of Education

• Provisions waived: Section 1116(b)(1)(E)(i) of the ESEA and 34 CFR 200.37(b)(4)(iv).

• Date waiver granted: August 24, 2010.

• Description of waiver: Allowed New York to postpone—

(A) Notice of public school choice for the start of the 2010-11 school year until assessment results were available; and

(B) Notice of public school choice options beyond 14 days before the start of the school year to parents of eligible children attending schools that—

(i) Were newly identified for improvement for the 2010-11 school year; or

(ii) Made AYP in the previous year but did not exit improvement status.

10. Waiver Applicant: Oklahoma Department of Education

• Provision waived: 34 CFR 200.37(b)(4)(iv).

• Date waiver granted: October 18, 2010.

• Description of waiver: Allowed Oklahoma to postpone—

(A) Notice of public school choice options beyond 14 days before the start of the school year to parents of eligible children attending schools that—

(i) Were newly identified for improvement for the 2010-11 school year; or

(ii) Made AYP in the previous year but did not exit improvement status.

11. Waiver Applicant: Tennessee Department of Education

• Provisions waived: Section 1116(b)(1)(E)(i) of the ESEA and 34 CFR 200.37(b)(4)(iv).

• Date waiver granted: August 10, 2010.

• Description of waiver: Allowed Tennessee to postpone—

(A) Notice of public school choice for the start of the 2010-11 school year until assessment results were available; and

(B) Notice of public school choice options beyond 14 days before the start of the school year to parents of eligible children attending schools that—

(i) Were newly identified for improvement for the 2010-11 school year; or

(ii) Made AYP in the previous year but did not exit improvement status.

12. Waiver Applicant: Washington Department of Education

• Provisions waived: Sections 1116(a)(2) and 1116(b)(l)(E)(i) of the ESEA, and 34 CFR 200.37(b)(4)(iv).

• Date waiver granted: June 30, 2010.

• Description of waiver: Allowed Washington to postpone—

(A) The release of results from the State academic assessment administered in the 2009-10 school year;

(B) Notice of public school choice for the start of the 2010-11 school year until assessment results were available; and

(C) Notice of public school choice options beyond 14 days before the start of the school year to parents of eligible children attending schools that—

(i) Were newly identified for improvement for the 2010-11 school year; or

(ii) Made AYP in the previous year but did not exit improvement status.

VII. AYP Determinations

1. Waiver Applicant: California Department of Education

• Provisions waived: Sections 1111(b)(3)(C)(vii), 1111(b)(3)(C)(v)(II), and 1116(a)(1)(A) of the ESEA, and 34 CFR 200.5(a)(2), 34 CFR 200.5(b), and 34 CFR 200.12.

• Date waiver granted: June 23, 2010.

• Description of waiver: Allowed some schools in Calexico Unified School District to exclude assessments administered in the 2009-10 school year when making AYP determinations and to assign the same AYP status to its schools as it assigned AYP determinations based on 2008-09 assessments. This was necessary because the April 4, 2010, earthquake and aftershocks resulted in schools closing for six weeks during the time that Calexico would have administered the assessments required under the ESEA.

2. Waiver Applicant: Florida Department of Education

• Provisions waived: Sections 1111(b)(2)(I)(ii) of the ESEA and 34 CFR 200.20(c)(l)(i).

• Date waiver granted: September 22, 2010.

• Description of waiver: Allowed Florida to exclude, from assessment participation rate calculations used in when making AYP determinations for the 2009-10 school year, those students who enrolled in Florida schools after having been displaced as a result of the January 12, 2010, earthquake in Haiti.

3. Waiver Applicant: Wyoming Department of Education

• Provisions waived: Sections 1111(b)(3)(A), 1111(b)(3)(C)(vii), 1111(b)(3)(C)(v)(II), 1116(a)(1)(A), and 1116(c)(1)(A) of the ESEA, and 34 CFR 200.2(a)(1), 34 CFR 200.5(a)(2), 34 CFR 200.5(b), 34 CFR 200.30, and 34 CFR 200.50(a).

• Date waiver granted: November 16, 2010.

• Description of waiver: Allowed Wyoming to exclude assessments administered in the 2009-10 school year in making AYP determinations due to a statewide failure of Wyoming's online assessment system that prevented the State from collecting valid statewide assessment data for that same school year.

VIII. Title I Within-District Allocation Waivers

1. Waiver Applicant: Clay County Schools, WV

• Provisions waived: Section 1113(c)(1) of the ESEA and 34 CFR 200.78(c).

• Date waiver granted: May 21, 2010.

• Description of waiver: Enabled the Clay County Schools to allocate more Title I funds per poor child to several schools with a lower poverty rate than to schools with a higher poverty rate.

2. Waiver Applicant: Community High School District 99, IL

• Provisions waived: Sections 1113(a)(2) and 1113(c)(2)(A) of the ESEA.

• Date waiver granted: December 13, 2010.

• Description of waiver: Enabled Community High School District 99 to allocate Title I funds to its second high school, which was below the District-wide poverty rate of 35 percent and, therefore, not eligible for Title I funds. The waiver further enabled the District to allocate an amount per poor child to both its high schools that was less than 125 percent of the per-pupil amount for the District as a whole.

IX. Allowing an SEA To Use Its Title I Allocation Reserved for Academic Achievement Awards Programs To Reward Qualified Schools That Are Eligible for, But Do Not Receive, Title I Funds

1. Waiver Applicant: Wisconsin Department of Education

• Provision waived: Section 1117(c)(2)(A) of the ESEA.

• Date waiver granted: December 23, 2010.

• Description of waiver: Permitted Wisconsin to use Title I funds reserved for academic achievement award programs by the SEA to reward qualified schools that were eligible for, but did not receive, Title I funds. Because of the funds made available for Title I through ARRA, Wisconsin was able to reserve significantly more FY 2009 funds to reward schools, and sought to take the opportunity to financially reward not only 120 qualifying Title I schools that received Title I funds, but also 17 high-poverty schools that were eligible for, but did not receive, Title I funds and had made significant strides in improving student achievement.

X. Participation or Attendance Rate Waivers Due to Breakouts of the H1N1 Virus

1. Waiver Applicant: Maryland Department of Education

• Provisions waived: Sections 1111(b)(2)(I)(ii) of the ESEA and 34 CFR 200.20(c)(l)(i).

• Date waiver granted: April 20, 2010.

• Description of waiver: Allowed Maryland to exclude schools or LEAs from assessment participation rate calculations when making AYP determinations for the 2009-10 school year for those student subgroups that failed to make the required 95 percent participation rate and experienced 50 percent or more of its absences on two or more days during the testing window due to the H1N1 flu virus or other flu-like illnesses. This waiver permitted a school or LEA in Maryland to use the school's or LEA's 2008-09 school year participation rate when making AYP determinations based on assessments administered during the 2009-10 school year.

2. Waiver Applicant: New Mexico Department of Education

• Provisions waived: Sections 1111(b)(2)(I)(ii) of the ESEA and 34 CFR 200.20(c)(l)(i).

• Date waiver granted: August 4, 2010.

• Description of waiver: Allowed New Mexico to exclude schools or LEAs from attendance rate as an “other academic indicator” when making AYP determinations for the 2009-10 school year for a school or LEA that failed to make AYP for the attendance rate due to the H1N1 flu virus or other flu-like illnesses. This waiver permitted a school or LEA in New Mexico to use the school's or LEA's 2009-10 school year attendance rate for an “other academic indicator” when making AYP determinations.

3. Waiver Applicant: South Carolina Department of Education

• Provisions waived: Sections 1111(b)(2)(I)(ii) of the ESEA and 34 CFR 200.20(c)(l)(i).

• Date waiver granted: January 21, 2010.

• Description of waiver: Allowed South Carolina to exclude schools or LEAs from attendance rate as the “other academic indicator” when making AYP determinations for the 2009-10 school year for a school or LEA that failed to make AYP for the attendance rate and experienced 50 percent or more of its absences due to the H1N1 flu virus or other flu-like illnesses. This waiver permitted a school or LEA in South Carolina to use the school or LEA's 2008-09 school year attendance rate for “other academic indicator” when making AYP determinations.

XI. Annual Measurable Achievement Objective Waiver

1. Waiver Applicant: Wyoming Department of Education

• Provisions waived: Section 3122(b)(1) of the ESEA.

• Date waiver granted: May 10, 2010.

• Description of waiver: Allowed Wyoming to make annual measurable achievement objective (AMAO) determinations for the 2009-10 school year based on AMAO 2 (attainment) and AMAO 3 (AYP for limited English proficiency subgroup). Wyoming adopted a new annual English language proficiency assessment and did not have consistent data to make AMAO determinations regarding AMAO 1 (progress) for districts receiving Title III funds for the 2009-10 school year.

XII. Two Percent Transition Flexibility

1. Waiver Applicant: Georgia Department of Education

• Provision waived: 34 CFR 200.20(g).

• Date waiver granted: July 2, 2010.

• Description of waiver: Permitted Georgia to extend the use of the two percent flexibility for calculating AYP for the “students with disabilities” subgroup for the 2010-11 school year based on 2009-10 assessment results. Due to severe resource issues, Georgia was not able to implement an operational alternate assessment based on modified academic achievement standards (AA-MAS) in spring 2010.

XIII. Paraprofessional Qualifications

1. Waiver Applicant: Texas Education Agency

• Provision waived: Section 1119(c) of the ESEA.

• Date waiver granted: April 30, 2010.

• Description of waiver: Permitted Texas' instructional paraprofessionals in schools receiving Title I, Part A funds for the first time in school year 2009-10 to have until the first day of the second semester of the current school year to meet the requirements for paraprofessionals. This waiver applied to paraprofessionals in these schools who were hired prior to the first day of the 2009-10 school year.

XIV. Consolidated Grant Restrictions

1. Waiver Applicant: American Samoa Department of Education

• Provisions waived: Sections 6222 and 6224(d) of the ESEA.

• Date waiver granted: February 26, 2010.

• Description of waiver: Provided American Samoa the flexibility to use ARRA FY 2009 funds through a consolidated grant for programs under Title VI, Part B of the ESEA.

2. Waiver Applicant: Guam Department of Education

• Provisions waived: Sections 6222 and 6224(d) of the ESEA.

• Date waiver granted: March 10, 2010.

• Description of waiver: Provided Guam the flexibility to use ARRA FY 2009 funds through a consolidated grant for programs under Title VI, Part B of the ESEA.

XV. Allowing SEAs or LEAs To Approve Schools or LEAs In Need of Improvement To Become SES Providers

1. Waiver Applicant: Alaska Department of Education

• Provision waived: 34 CFR 200.47(b)(1)(iv)(A) and (B).

• Date waiver granted: June, 16, 2010.

• Description of waiver: Permitted Alaska to approve a school or LEA identified for improvement, corrective action, or restructuring to serve as a provider of SES during the 2010-11 school year.

2. Waiver Applicant: Arizona Department of Education

• Provision waived: 34 CFR 200.47(b)(1)(iv)(A) and (B).

• Date waiver granted: August 4, 2010.

• Description of waiver: Permitted Arizona to approve a school or LEA identified for improvement, corrective action, or restructuring to serve as a provider of SES during the 2010-11 school year.

3. Waiver Applicant: Delaware Department of Education

• Provision waived: 34 CFR 200.47(b)(1)(iv)(A) and (B).

• Date waiver granted: June 15, 2010.

• Description of waiver: Permitted Delaware to approve a school or LEA identified for improvement, corrective action, or restructuring to serve as a provider of SES during the 2009-10 school year.

4. Waiver Applicant: Florida Department of Education

• Provision waived: 34 CFR 200.47(b)(1)(iv)(A) and (B).

• Date waiver granted: August 25, 2010.

• Description of waiver: Permitted Florida to approve a school or LEA identified for improvement, corrective action, or restructuring to serve as a provider of SES during the 2010-11 school year.

5. Waiver Applicant: Hawaii Department of Education

• Provision waived: 34 CFR 200.47(b)(1)(iv)(A).

• Date waiver granted: August 20, 2010.

• Description of waiver: Permitted Hawaii to approve a school identified for improvement, corrective action, or restructuring to serve as a provider of SES during the 2010-11 school year.

6. Waiver Applicant: Indiana Department of Education

• Provision waived: 34 CFR 200.47(b)(1)(iv)(A) and (B).

• Date waiver granted: July 2, 2010.

• Description of waiver: Permitted Indiana to approve a school or LEA identified for improvement, corrective action, or restructuring to serve as a provider of SES during the 2010-11 school year.

7. Waiver Applicant: Iowa Department of Education

• Provision waived: 34 CFR 200.47(b)(1)(iv)(A) and (B).

• Date waiver granted: August 3, 2010.

• Description of waiver: Permitted Iowa to approve a school or LEA identified for improvement, corrective action, or restructuring to serve as a provider of SES during the 2010-11 school year.

8. Waiver Applicant: Maine Department of Education

• Provision waived: 34 CFR 200.47(b)(1)(iv)(A) and (B).

• Date waiver granted: September 9, 2010.

• Description of waiver: Permitted Maine to approve a school or LEA identified for improvement, corrective action, or restructuring to serve as a provider of SES during the 2010-11 school year.

9. Waiver Applicant: Massachusetts State Board of Education

• Provision waived: 34 CFR 200.47(b)(1)(iv)(A) and (B).

• Date waiver granted: July 19, 2010.

• Description of waiver: Permitted Massachusetts to approve a school or LEA identified for improvement, corrective action, or restructuring to serve as a provider of SES during the 2010-11 school year.

10. Waiver Applicant: Missouri Department of Education

• Provision waived: 34 CFR 200.47(b)(1)(iv)(A) and (B).

• Date waiver granted: August 10, 2010.

• Description of waiver: Permitted Missouri to approve a school or LEA identified for improvement, corrective action, or restructuring to serve as a provider of SES during the 2010-11 school year.

11. Waiver Applicant: Montana Department of Education

• Provision waived: 34 CFR 200.47(b)(1)(iv)(A) and (B).

• Date waiver granted: June 23, 2010.

• Description of waiver: Permitted Montana to approve a school or LEA identified for improvement, corrective action, or restructuring to serve as a provider of SES during the 2010-11 school year.

12. Waiver Applicant: Nebraska Department of Education

• Provision waived: 34 CFR 200.47(b)(1)(iv)(A) and (B).

• Date waiver granted: July 12, 2010.

• Description of waiver: Permitted Nebraska to approve a school or LEA identified for improvement, corrective action, or restructuring to serve as a provider of SES during the 2010-11 school year.

13. Waiver Applicant: New Hampshire Department of Education

• Provision waived: 34 CFR 200.47(b)(1)(iv)(A) and (B).

• Date waiver granted: August 4, 2010.

• Description of waiver: Permitted New Hampshire to approve a school or LEA identified for improvement, corrective action, or restructuring to serve as a provider of SES during the 2010-11 school year.

14. Waiver Applicant: New Mexico Department of Education

• Provision waived: 34 CFR 200.47(b)(1)(iv)(A) and (B).

• Date waiver granted: July 20, 2010.

• Description of waiver: Permitted New Mexico to approve a school or LEA identified for improvement to serve as a provider of SES during the 2010-11 school year.

15. Waiver Applicant: New York State Department of Education

• Provision waived: 34 CFR 200.47(b)(1)(iv)(A) and (B).

• Date waiver granted: March 3, 2010.

• Description of waiver: Permitted New York to approve a school or LEA identified for improvement, corrective action, or restructuring to serve as a provider of SES during the 2009-10 school year.

16. Waiver Applicant: North Carolina Department of Public Instruction

• Provision waived: 34 CFR 200.47(b)(1)(iv)(A) and (B).

• Date waiver granted: July 21, 2010.

• Description of waiver: Permitted North Carolina to approve a school or LEA identified for improvement, corrective action, or restructuring to serve as a provider of SES during the 2010-11 school year.

17. Waiver Applicant: North Dakota Department of Education

• Provision waived: 34 CFR 200.47(b)(1)(iv)(A) and (B).

• Date waiver granted: June 15, 2010.

• Description of waiver: Permitted North Dakota to approve a school or LEA identified for improvement, corrective action, or restructuring to serve as a provider of SES during the 2010-11 school year.

18. Waiver Applicant: Ohio Department of Education

• Provision waived: 34 CFR 200.47(b)(1)(iv)(A) and (B).

• Date waiver granted: July 20, 2010.

• Description of waiver: Permitted Ohio to approve a school or LEA identified for improvement, corrective action, or restructuring to serve as a provider of SES during the 2010-11 school year.

19. Waiver Applicant: Oklahoma Department of Education

• Provision waived: 34 CFR 200.47(b)(1)(iv)(A) and (B).

• Date waiver granted: June 15, 2010.

• Description of waiver: Permitted Oklahoma to approve a school or LEA identified for improvement, corrective action, or restructuring to serve as a provider of SES during the 2010-11 school year.

20. Waiver Applicant: Pennsylvania Department of Education

• Provision waived: 34 CFR 200.47(b)(1)(iv)(A) and (B).

• Date waiver granted: August 3, 2010.

• Description of waiver: Permitted Oregon to approve a school or LEA identified for improvement, corrective action, or restructuring to serve as a provider of SES during the 2010-11 school year.

21. Waiver Applicant: Red Clay Consolidated School District, DE

• Provision waived: 34 CFR 200.47(b)(1)(iv)(B).

• Date waiver granted: February 4, 2010.

• Description of waiver: Permitted the Red Clay Consolidated School District in Delaware, an LEA identified for improvement, to serve as a provider of SES during the 2009-10 school year.

22. Waiver Applicant: Rhode Island Department of Education

• Provision waived: 34 CFR 200.47(b)(1)(iv)(A) and (B).

• Date waiver granted: June 16, 2010.

• Description of waiver: Permitted Rhode Island to approve a school or LEA identified for improvement, corrective action, or restructuring to serve as a provider of SES during the 2010-11 school year.

23. Waiver Applicant: South Carolina Department of Education

• Provision waived: 34 CFR 200.47(b)(1)(iv)(A) and (B).

• Date waiver granted: July 12, 2010.

• Description of waiver: Permitted South Carolina to approve a school or LEA identified for improvement, corrective action, or restructuring to serve as a provider of SES during the 2010-11 school year.

24. Waiver Applicant: South Dakota Department of Education

• Provision waived: 34 CFR 200.47(b)(1)(iv)(A) and (B).

• Date waiver granted: June 16, 2010.

• Description of waiver: Permitted South Dakota to approve a school or LEA identified for improvement, corrective action, or restructuring to serve as a provider of SES during the 2010-11 school year.

25. Waiver Applicant: Tennessee Department of Education

• Provision waived: 34 CFR 200.47(b)(1)(iv)(A) and (B).

• Date waiver granted: October 14, 2010.

• Description of waiver: Permitted Tennessee to approve a school or LEA identified for improvement, corrective action, or restructuring to serve as a provider of SES during the 2010-11 school year.

26. Waiver Applicant: Texas Education Agency

• Provision waived: 34 CFR 200.47(b)(1)(iv)(A) and (B).

• Date waiver granted: April 30, 2010.

• Description of waiver: Permitted Texas to approve a school or LEA identified for improvement, corrective action, or restructuring to serve as a provider of SES during the 2009-10 school year.

27. Waiver Applicant: Utah Department of Education

• Provision waived: 34 CFR 200.47(b)(1)(iv)(A) and (B).

• Date waiver granted: January 19, 2010.

• Description of waiver: Permitted Utah to approve a school or LEA identified for improvement, corrective action, or restructuring to serve as a provider of SES during the 2009-10 school year.

28. Waiver Applicant: Washington Department of Education

• Provision waived: 34 CFR 200.47(b)(1)(iv)(A) and (B).

• Date waiver granted: July 27, 2010.

• Description of waiver: Permitted Washington to approve a school or LEA identified for improvement, corrective action, or restructuring to serve as a provider of SES during the 2010-11 school year.

29. Waiver Applicant: Wisconsin Department of Education

• Provision waived: 34 CFR 200.47(b)(1)(iv)(A) and (B).

• Date waiver granted: August 10, 2010.

• Description of waiver: Permitted Wisconsin to approve a school or LEA identified for improvement, corrective action, or restructuring to serve as a provider of SES during the 2010-11 school year.

XVI. Allowing LEAs to Provide SES, In Addition to Public School Choice, to Eligible Students In Title I Schools In the First Year of School Improvement and To Count the Costs of Both Toward Meeting the LEA's “20 Percent Obligation”

A. New Applicants

1. Waiver Applicant: Delaware Department of Education

• Provisions waived: Section 1116(b)(10) of the ESEA and 34 CFR 200.48.

• Date waiver granted: June 15, 2010.

• Description of waiver: For the 2010-11 school year, permitted LEAs in Delaware to offer SES, in addition to public school choice, to eligible students in Title I schools in the first year of school improvement and to count the costs of providing SES to these students toward meeting the LEA's “20 percent obligation.”

2. Waiver Applicant: Florida Department of Education

• Provisions waived: Section 1116(b)(10) of the ESEA and 34 CFR 200.48.

• Date waiver granted: August 25, 2010.

• Description of waiver: For the 2010-11 school year, permitted LEAs in Florida to offer SES, in addition to public school choice, to eligible students in Title I schools in the first year of school improvement and to count the costs of providing SES to these students toward meeting the LEA's “20 percent obligation.”

3. Waiver Applicant: Minnesota Department of Education

• Provisions waived: Section 1116(b)(10) of the ESEA and 34 CFR 200.48.

• Date waiver granted: January 19, 2010.

• Description of waiver: For the 2010-11 school year, permitted LEAs in Minnesota to offer SES, in addition to public school choice, to eligible students in Title I schools in the first year of school improvement and to count the costs of providing SES to these students toward meeting the LEA's “20 percent obligation.”

4. Waiver Applicant: New York State Department of Education

• Provisions waived: Section 1116(b)(10) of the ESEA and 34 CFR 200.48.

• Date waiver granted: March 3, 2010.

• Description of waiver: For the 2010-11 school year, permitted LEAs in New York to offer SES, in addition to public school choice, to eligible students in Title I schools in the first year of school improvement and to count the costs of providing SES to these students toward meeting the LEA's “20 percent obligation.”

B. Continuation Applicants

1. Waiver Applicant: Alabama Department of Education

• Provisions waived: Section 1116(b)(10) of the ESEA and 34 CFR 200.48.

• Date waiver granted: August 10, 2010.

• Description of waiver: For the 2010-11 school year, permitted LEAS in Alabama to offer SES, in addition to public school choice, to eligible students in Title I schools in the first year of school improvement and to count the costs of providing SES to these students toward meeting the LEA's “20 percent obligation.”

2. Waiver Applicant: Arizona Department of Education

• Provisions waived: Section 1116(b)(10) of the ESEA and 34 CFR 200.48.

• Date waiver granted: August 4, 2010.

• Description of waiver: For the 2010-11 school year, permitted LEAs in Arizona to offer SES, in addition to public school choice, to eligible students in Title I schools in the first year of school improvement and to count the costs of providing SES to these students toward meeting the LEA's “20 percent obligation.”

3. Waiver Applicant: California Department of Education

• Provisions waived: Section 1116(b)(10) of the ESEA and 34 CFR 200.48.

• Date waiver granted: December 7, 2010.

• Description of waiver: For the 2010-11 school year, permitted LEAs in California to offer SES, in addition to public school choice, to eligible students in Title I schools in the first year of school improvement and to count the costs of providing SES to these students toward meeting the LEA's “20 percent obligation.”

4. Waiver Applicant: Iowa Department of Education

• Provisions waived: Section 1116(b)(10) of the ESEA and 34 CFR 200.48.

• Date waiver granted: August 3, 2010.

• Description of waiver: For the 2010-11 school year, permitted LEAs in Iowa to offer SES, in addition to public school choice, to eligible students in Title I schools in the first year of school improvement and to count the costs of providing SES to these students toward meeting the LEA's “20 percent obligation.”

5. Waiver Applicant: Massachusetts Department of Education

• Provisions waived: Section 1116(b)(10) of the ESEA and 34 CFR 200.48.

• Date waiver granted: July 19, 2010.

• Description of waiver: For the 2010-11 school year, permitted LEAs in Massachusetts to offer SES, in addition to public school choice, to eligible students in Title I schools in the first year of school improvement and to count the costs of providing SES to these students toward meeting the LEA's “20 percent obligation.”

6. Waiver Applicant: Michigan Department of Education

• Provisions waived: Section 1116(b)(10) of the ESEA and 34 CFR 200.48.

• Date waiver granted: August 10, 2010.

• Description of waiver: For the 2010-11 school year, permitted LEAs in Michigan to offer SES, in addition to public school choice, to eligible students in Title I schools in the first year of school improvement and to count the costs of providing SES to these students toward meeting the LEA's “20 percent obligation.”

7. Waiver Applicant: Missouri Department of Education

• Provisions waived: Section 1116(b)(10) of the ESEA and 34 CFR 200.48.

• Date waiver granted: August 10, 2010.

• Description of waiver: For the 2010-11 school year, permitted LEAs in Missouri to offer SES, in addition to public school choice, to eligible students in Title I schools in the first year of school improvement and to count the costs of providing SES to these students toward meeting the LEA's “20 percent obligation.”

8. Waiver Applicant: Nebraska Department of Education

• Provisions waived: Section 1116(b)(10) of the ESEA and 34 CFR 200.48.

• Date waiver granted: July 12, 2010.

• Description of waiver: For the 2010-11 school year, permitted LEAs in Nebraska to offer SES, in addition to public school choice, to eligible students in Title I schools in the first year of school improvement and to count the costs of providing SES to these students toward meeting the LEA's “20 percent obligation.”

9. Waiver Applicant: Nevada Department of Education

• Provisions waived: Section 1116(b)(10) of the ESEA and 34 CFR 200.48.

• Date waiver granted: June 15, 2010.

• Description of waiver: For the 2010-11 school year, permitted LEAs in Nevada to offer SES, in addition to public school choice, to eligible students in Title I schools in the first year of school improvement and to count the costs of providing SES to these students toward meeting the LEA's “20 percent obligation.”

10. Waiver Applicant: New Hampshire Department of Education

• Provisions waived: Section 1116(b)(10) of the ESEA and 34 CFR 200.48.

• Date waiver granted: August 4, 2010.

• Description of waiver: For the 2010-11 school year, permitted LEAs in New Hampshire to offer SES, in addition to public school choice, to eligible students in Title I schools in the first year of school improvement and to count the costs of providing SES to these students toward meeting the LEA's “20 percent obligation.”

11. Waiver Applicant: New Mexico Department of Education

• Provisions waived: Section 1116(b)(10) of the ESEA and 34 CFR 200.48.

• Date waiver granted: July 20, 2010.

• Description of waiver: For the 2010-11 school year, permitted LEAs in New Mexico to offer SES, in addition to public school choice, to eligible students in Title I schools in the first year of school improvement and to count the costs of providing SES to these students toward meeting the LEA's “20 percent obligation.”

12. Waiver Applicant: North Carolina Department of Public Instruction

• Provisions waived: Section 1116(b)(10) of the ESEA and 34 CFR 200.48.

• Date waiver granted: July 21, 2010.

• Description of waiver: For the 2010-11 school year, permitted LEAs in North Carolina to offer SES, in addition to public school choice, to eligible students in Title I schools in the first year of school improvement and to count the costs of providing SES to these students toward meeting the LEA's “20 percent obligation.”

13. Waiver Applicant: Ohio Department of Education

• Provisions waived: Section 1116(b)(10) of the ESEA and 34 CFR 200.48.

• Date waiver granted: July 20, 2010.

• Description of waiver: For the 2010-11 school year, permitted LEAs in Ohio to offer SES, in addition to public school choice, to eligible students in Title I schools in the first year of school improvement and to count the costs of providing SES to these students toward meeting the LEA's “20 percent obligation.”

14. Waiver Applicant: Oklahoma Department of Education

• Provisions waived: Section 1116(b)(10) of the ESEA and 34 CFR 200.48.

• Date waiver granted: November 9, 2010.

• Description of waiver: For the 2010-11 school year, permitted LEAs in Oklahoma to offer SES, in addition to public school choice, to eligible students in Title I schools in the first year of school improvement and to count the costs of providing SES to these students toward meeting the LEA's “20 percent obligation.”

15. Waiver Applicant: Tennessee Department of Education

• Provisions waived: Section 1116(b)(10) of the ESEA and 34 CFR 200.48.

• Date waiver granted: October 14, 2010.

• Description of waiver: For the 2010-11 school year, permitted LEAs in Tennessee to offer SES, in addition to public school choice, to eligible students in Title I schools in the first year of school improvement and to count the costs of providing SES to these students toward meeting the LEA's “20 percent obligation.”

16. Waiver Applicant: Virginia Department of Education

• Provisions waived: Section 1116(b)(10) of the ESEA and 34 CFR 200.48.

• Date waiver granted: August 4, 2010.

• Description of waiver: For the 2010-11 school year, permitted LEAs in Virginia to offer SES, in addition to public school choice, to eligible students in Title I schools in the first year of school improvement and to count the costs of providing SES to these students toward meeting the LEA's “20 percent obligation.”

17. Waiver Applicant: Washington Department of Education

• Provisions waived: Section 1116(b)(10) of the ESEA and 34 CFR 200.48.

• Date waiver granted: July 27, 2010.

• Description of waiver: For the 2010-11 school year, permitted LEAs in Washington to offer SES, in addition to public school choice, to eligible students in Title I schools in the first year of school improvement and to count the costs of providing SES to these students toward meeting the LEA's “20 percent obligation.”

XVII. Waivers Related to Title I, Part A Funding Provided Under ARRA

A. Allowing an LEA To Exclude Its Title I, Part A Allocation Received Under ARRA When Calculating Its Obligation to Spend the Equivalent of 20 Percent of Title I, Part A Funds for Public School Choice-Related Transportation and SES

1. Waiver Applicant: Kansas Department of Education

• Provisions waived: Section 1116(b)(10) of the ESEA and 34 CFR 200.48(a)(2).

• Date waiver granted: April 6, 2010.

• Description of waiver: Allowed LEAs in Kansas to exclude all or part of the Title I, Part A ARRA funds when calculating their obligation to spend at least the equivalent of 20 percent of their fiscal year 2009 Title I, Part A funds for public school choice-related transportation and SES.

2. Waiver Applicant: Minnesota Department of Education

• Provisions waived: Section 1116(b)(10) of the ESEA and 34 CFR 200.48(a)(2).

• Date waiver granted: January 19, 2010.

• Description of waiver: Allowed LEAs in Minnesota to exclude all or part of the Title I, Part A ARRA funds when calculating their obligation to spend at least the equivalent of 20 percent of their fiscal year 2009 Title I, Part A funds for public school choice-related transportation and SES.

3. Waiver Applicant: Mississippi Department of Education

• Provisions waived: Section 1116(b)(10) of the ESEA and 34 CFR 200.48(a)(2).

• Date waiver granted: May 10, 2010.

• Description of waiver: Allowed LEAs in Mississippi to exclude all or part of the Title I, Part A ARRA funds when calculating their obligation to spend at least the equivalent of 20 percent of their fiscal year 2009 Title I, Part A funds for public school choice-related transportation and SES.

4. Waiver Applicant: New York State Department of Education

• Provisions waived: Section 1116(b)(10) of the ESEA and 34 CFR 200.48(a)(2).

• Date waiver granted: March 3, 2010.

• Description of waiver: Allowed LEAs in New York to exclude all or part of the Title I, Part A ARRA funds when calculating their obligation to spend at least the equivalent of 20 percent of their fiscal year 2009 Title I, Part A funds for public school choice-related transportation and SES.

5. Waiver Applicant: Puerto Rico Department of Education

• Provisions waived: Section 1116(b)(10) of the ESEA and 34 CFR 200.48(a)(2).

• Date waiver granted: April 6, 2010.

• Description of waiver: Allowed the Puerto Rico LEA to exclude all or part of the Title I, Part A ARRA funds when calculating their obligation to spend at least the equivalent of 20 percent of their fiscal year 2009 Title I, Part A funds for public school choice-related transportation and SES.

6. Waiver Applicant: Red Clay Consolidated School District, DE

• Provisions waived: Section 1116(b)(10) of the ESEA and 34 CFR 200.48(a)(2).

• Date waiver granted: February 4, 2010.

• Description of waiver: Allowed the Red Clay Consolidated School District in Delaware to exclude all or part of its Title I, Part A ARRA funds when calculating its obligation to spend at least the equivalent of 20 percent of its fiscal year 2009 Title I, Part A funds for public school choice-related transportation and SES.

7. Waiver Applicant: Texas Education Agency

• Provisions waived: Section 1116(b)(10) of the ESEA and 34 CFR 200.48(a)(2).

• Date waiver granted: April 30, 2010.

• Description of waiver: Allowed LEAs in Texas to exclude all or part of the Title I, Part A ARRA funds when calculating their obligation to spend at least the equivalent of 20 percent of their fiscal year 2009 Title I, Part A funds for public school choice-related transportation and SES.

8. Waiver Applicant: Utah Department of Education

• Provisions waived: Section 1116(b)(10) of the ESEA and 34 CFR 200.48(a)(2).

• Date waiver granted: January 19, 2010.

• Description of waiver: Allowed LEAs in Utah to exclude all or part of the Title I, Part A ARRA funds when calculating their obligation to spend at least the equivalent of 20 percent of its fiscal year 2009 Title I, Part A funds for public school choice-related transportation and SES.

B. Allowing an LEA and/or a SCHOOL To Exclude Its Title I, Part A Allocation Received Under ARRA When Calculating Its Obligation To Spend 10 Percent of Title I, Part A Funds For Professional Development

1. Waiver Applicant: Kansas Department of Education

• Provisions waived: Sections 1116(c)(7)(A)(iii) and 1116(b)(3)(A)(iii) of the ESEA, and 34 CFR 200.52(a)(3)(iii) and 34 CFR 200.41(c)(5).

• Date waiver granted: April 6, 2010.

• Description of waiver: Allowed LEAs and schools in Kansas that were in improvement, corrective action, or restructuring status to exclude all or part of the Title I, Part A ARRA funds when calculating their obligation to spend at least 10 percent of fiscal year 2009 Title I, Part A funds for professional development.

2. Waiver Applicant: Minnesota Department of Education

• Provisions waived: Sections 1116(c)(7)(A)(iii) and 1116(b)(3)(A)(iii) of the ESEA, and 34 CFR 200.52(a)(3)(iii) and 34 CFR 200.41(c)(5).

• Date waiver granted: January 19, 2010.

• Description of waiver: Allowed LEAs and schools in Minnesota that were in improvement, corrective action, or restructuring status to exclude all or part of the Title I, Part A ARRA funds when calculating their obligation to spend at least 10 percent of fiscal year 2009 Title I, Part A funds for professional development.

3. Waiver Applicant: Mississippi Department of Education

• Provisions waived: Section 1116(b)(3)(A)(iii) of the ESEA, and 34 CFR 200.41(c)(5).

• Date waiver granted: May 10, 2010.

• Description of waiver: Allowed schools in Mississippi that were in improvement, corrective action, or restructuring status to exclude all or part of the Title I, Part A ARRA funds when calculating their obligation to spend at least 10 percent of fiscal year 2009 Title I, Part A funds for professional development.

4. Waiver Applicant: Montana Department of Education

• Provisions waived: Section 1116(c)(7)(A)(iii) of the ESEA and 34 CFR 200.52(a)(3)(iii).

• Date waiver granted: October 19, 2010.

• Description of waiver: Allowed LEAs in Montana that were in improvement, corrective action, or restructuring status to exclude all or part of the Title I, Part A ARRA funds when calculating their obligation to spend at least 10 percent of fiscal year 2009 Title I, Part A funds for professional development.

5. Waiver Applicant: New York State Department of Education

• Provisions waived: Sections 1116(c)(7)(A)(iii) and 1116(b)(3)(A)(iii) of the ESEA, and 34 CFR 200.52(a)(3)(iii) and 34 CFR 200.41(c)(5).

• Date waiver granted: March 3, 2010.

• Description of waiver: Allowed LEAs and schools in New York that were in improvement, corrective action, or restructuring status to exclude all or part of the Title I, Part A ARRA funds when calculating their obligation to spend at least 10 percent of fiscal year 2009 Title I, Part A funds for professional development.

6. Waiver Applicant: Puerto Rico Department of Education

• Provisions waived: Sections 1116(c)(7)(A)(iii) and 1116(b)(3)(A)(iii) of the ESEA, and 34 CFR 200.52(a)(3)(iii) and 34 CFR 200.41(c)(5).

• Date waiver granted: April 6, 2010.

• Description of waiver: Allowed the Puerto Rico LEA and its schools that were in improvement, corrective action, or restructuring status to exclude all or part of the Title I, Part A ARRA funds when calculating their obligation to spend at least 10 percent of fiscal year 2009 Title I, Part A funds for professional development.

7. Waiver Applicant: Red Clay Consolidated School District, DE

• Provisions waived: Sections 1116(c)(7)(A)(iii) and 1116(b)(3)(A)(iii) of the ESEA, and 34 CFR 200.52(a)(3)(iii) and 34 CFR 200.41(c)(5).

• Date waiver granted: February 4, 2010.

• Description of waiver: Allowed the LEA and the schools in the Red Clay District in Delaware that were in improvement, corrective action, or restructuring status to exclude all or part of the Title I, Part A ARRA funds when calculating their obligation to spend at least 10 percent of fiscal year 2009 Title I, Part A funds for professional development.

8. Waiver Applicant: Utah Department of Education

• Provisions waived: Sections 1116(c)(7)(A)(iii) and 1116(b)(3)(A)(iii) of the ESEA, and 34 CFR 200.52(a)(3)(iii) and 34 CFR 200.41(c)(5).

• Date waiver granted: January 19, 2010.

• Description of waiver: Allowed LEAs and schools in Utah that were in improvement, corrective action, or restructuring status to exclude all or part of the Title I, Part A ARRA funds when calculating their obligation to spend at least 10 percent of fiscal year 2009 Title I, Part A funds for professional development.

C. Allowing an LEA To Exclude Title I, Part A Funds Received Under ARRA When Calculating the Per-Pupil Amount for SES

1. Waiver Applicant: Kansas Department of Education

• Provisions waived: Section 1116(e)(6) of the ESEA and 34 CFR 200.48(c)(1).

• Date waiver granted: April 6, 2010.

• Description of waiver: Allowed LEAs in Kansas to exclude all or part of their Title I, Part A ARRA funds when calculating the per-pupil amount for SES.

2. Waiver Applicant: Minnesota Department of Education

• Provisions waived: Section 1116(e)(6) of the ESEA and 34 CFR 200.48(c)(1).

• Date waiver granted: January 19, 2010.

• Description of waiver: Allowed LEAs in Minnesota to exclude all or part of their Title I, Part A ARRA funds when calculating the per-pupil amount for SES.

3. Waiver Applicant: Mississippi Department of Education

• Provisions waived: Section 1116(e)(6) of the ESEA and 34 CFR 200.48(c)(1).

• Date waiver granted: May 10, 2010.

• Description of waiver: Allowed LEAs in Mississippi to exclude all or part of their Title I, Part A ARRA funds when calculating the per-pupil amount for SES.

4. Waiver Applicant: New York State Department of Education

• Provisions waived: Section 1116(e)(6) of the ESEA and 34 CFR 200.48(c)(1).

• Date waiver granted: March 3, 2010.

• Description of waiver: Allowed LEAs in New York to exclude all or part of their Title I, Part A ARRA funds when calculating the per-pupil amount for SES.

5. Waiver Applicant: Puerto Rico Department of Education

• Provisions waived: Section 1116(e)(6) of the ESEA and 34 CFR 200.48(c)(1).

• Date waiver granted: April 6, 2010.

• Description of waiver: Allowed the Puerto Rico LEA to exclude all or part of its` Title I, Part A ARRA funds when calculating the per-pupil amount for SES.

6. Waiver Applicant: Red Clay Consolidated School District, DE

• Provisions waived: Section 1116(e)(6) of the ESEA and 34 CFR 200.48(c)(1).

• Date waiver granted: February 4, 2010.

• Description of waiver: Allowed the Red Clay Consolidated School District to exclude all or part of its Title I, Part A ARRA funds when calculating the per-pupil amount for SES.

7. Waiver Applicant: Texas Education Agency

• Provisions waived: Section 1116(e)(6) of the ESEA and 34 CFR 200.48(c)(1).

• Date waiver granted: April 30, 2010.

• Description of waiver: Allowed LEAs in Texas to exclude all or part of their Title I, Part A ARRA funds when calculating the per-pupil amount for SES.

8. Waiver Applicant: Utah Department of Education

• Provisions waived: Section 1116(e)(6) of the ESEA and 34 CFR 200.48(c)(1).

• Date waiver granted: January 19, 2010.

• Description of waiver: Allowed LEAs in Utah to exclude all or part of its Title I, Part A ARRA funds when calculating the per-pupil amount for SES.

D. Authorizing an SEA To Waive the Carryover Limitation for an LEA That Needs an Additional Waiver Because of Its Receipt of Title I, Part A ARRA Funds

1. Waiver Applicant: Minnesota Department of Education

• Provisions waived: Section 1127(b) of the ESEA.

• Date waiver granted: January 19, 2010.

• Description of waiver: Authorized Minnesota to waive the carryover limitation more than once within three years for an LEA that needs a second (or third) waiver because of its receipt of Title I, Part A ARRA funds.

2. Waiver Applicant: Mississippi Department of Education

• Provisions waived: Section 1127(b) of the ESEA.

• Date waiver granted: May 10, 2010.

• Description of waiver: Authorized Mississippi to waive the carryover limitation more than once within three years for an LEA that needs a second (or third) waiver because of its receipt of Title I, Part A ARRA funds.

3. Waiver Applicant: Montana Department of Education

• Provisions waived: Section 1127(b) of the ESEA.

• Date waiver granted: June 23, 2010.

• Description of waiver: Authorized Montana to waive the carryover limitation more than once within three years for an LEA that needs a second (or third) waiver because of its receipt of Title I, Part A ARRA funds.

4. Waiver Applicant: New York State Department of Education

• Provisions waived: Section 1127(b) of the ESEA.

• Date waiver granted: March 3, 2010.

• Description of waiver: Authorized New York to waive the carryover limitation more than once within three years for an LEA that needs a second (or third) waiver because of its receipt of Title I, Part A ARRA funds.

5. Waiver Applicant: Red Clay Consolidated School District, DE

• Provisions waived: Section 1127(a) of the ESEA.

• Date waiver granted: February 4, 2010.

• Description of waiver: Authorized the Red Clay Consolidated School District in Delaware to exceed the carryover limitation more than once within three years if it needs a second (or third) waiver because of its receipt of Title I, Part A ARRA funds.

6. Waiver Applicant: Utah Department of Education

• Provisions waived: Section 1127(b) of the ESEA.

• Date waiver granted: January 19, 2010.

• Description of waiver: Authorized Utah to waive the carryover limitation more than once within three years for an LEA that needs a second (or third) waiver because of its receipt of Title I, Part A ARRA funds.

FOR FURTHER INFORMATION CONTACT: Luz Curet, U.S. Department of Education, 400 Maryland Avenue SW., Room 3W344, Washington, DC 20202. Telephone: (202) 205-3728 or by email: luz.curet@ed.gov.

If you use a telecommunications device for the deaf (TDD), call the Federal Relay Service (FRS), toll free, at 1-800-877-8339.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital Systems at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov.

Specifically, through the advanced search feature at this site, you can limit your search to documents published by the Department.

Dated: November 22, 2013.
Deborah S. Delisle,
Assistant Secretary for Elementary and Secondary Education.

[FR Doc. 2013-28504 Filed 11-26-13; 8:45 am]

BILLING CODE 4000-01-P